DEPARTMENT OF TRANSPORTATION

Office of the Secretary

14 CFR Chapter II

[Docket No. DOT-OST-2014-0140]

RIN 2105-AD86

Elimination of Obsolete Provisions and Correction of Outdated Statutory References in Aviation Economic Regulations

AGENCY: Office of the Secretary (OST), U.S. Department of Transportation (DOT).

ACTION: Final rule.

SUMMARY: The Department is amending various provisions regarding its aviation economic regulations to eliminate any further remaining obsolete provisions and correct outdated statutory references. This final rule aligns with the Department's retrospective regulatory review initiatives to modify, streamline, or repeal regulations that are obsolete or out-of-date.

DATES: This final rule is effective May 16, 2019.

ADDRESSES: For access to the docket to read background documents or comments received, go to http://www.regulations.gov and follow the online instructions for accessing the docket.

FOR FURTHER INFORMATION CONTACT: Jill Laptosky or Jennifer Abdul-Wali, Office of Regulation, U.S. Department of Transportation, 1200 New Jersey Avenue SE, Washington, DC 20590; (202) 366-4723; fax: (202) 366-9313; email: Jill.Laptosky@dot.gov or Jennifer.AbdulWali@dot.gov.

SUPPLEMENTARY INFORMATION:

I. Background

II. Discussion of the Final Rule

III. Comment Discussion

IV. Regulatory Analyses and Notices

A. Executive Order 12866 and DOT Regulatory Policies and Procedures

B. Executive Order 13771 (Reducing Regulation and Controlling Regulatory Costs)

C. Regulatory Flexibility Act

D. Executive Order 13132 (Federalism)

E. Executive Order 13175

F. Paperwork Reduction Act

G. National Enviromental Policy Act

List of Subjects

The Amendment

I. Background

In 1994, the Federal Aviation Act was revised and codified within Subtitle VII of Title 49 of the United States Code (Pub. L. 103-272, July 5, 1994). Since the codification, the Department has made numerous amendments to make the CFR consistent with the provisions of the current statute (49 U.S.C., Subtitle VII). Some provisions, however, remained unchanged, due in part to the complexity of certain issues, such as antitrust immunity, agreements, and waivers. This rule updates the economic regulations by modifying language to reflect current statutory provisions related to these remaining issues. The revised language does not diminish any existing Civil Aeronautics Board (CAB) provisions or precedent still in effect.

II. Discussion of the Final Rule

This rule updates the regulatory language throughout 14 CFR parts 200 through 399 in the following ways: (1) Where references to the CAB are no longer relevant, replaces the term “Board” or “CAB”, where appropriate, with “Department”, “DOT” or “Predecessor”; (2) removes citations to the “Federal Aviation Act” or “Act” and adds citations to the appropriate sections of Title 49 of the United States Code; (3) inserts current names of forms in place of outdated references to CAB forms; (4) adds up-to-date titles for offices within the Department; and (5) updates the authority citations, where needed.

Additional changes are as follows:

Part 204 describes the data the Department uses to support carrier fitness determinations. Section 204.4 discusses carrier obligations for proposing to provide essential air service. The section is no longer in use and is obsolete. As such, the section is removed in its entirety.

Parts 207 and 208 address U.S. scheduled and charter air carrier requirements with respect to charter trips. Both parts refer to 14 CFR part 212 in describing carrier obligations on charter air transportation and contain no independent obligations of their own. As such, these parts are obsolete and are removed.

Part 221 describes carrier obligations with respect to tariffs. This rule revises part 221 by broadening the language used to refer to international treaties. The current regulation refers to the Warsaw Convention, which is no longer the relevant international treaty applicable to travelers on many itineraries. The rule updates and simplifies existing passenger notification requirements and consolidates such requirements into a single section. Specifically, the rule consolidates separate notice requirements for liability from death or injury and liability from damage to baggage into a single notice requirement that better reflects the current international landscape, including references to the 1999 Montreal Convention, which governs many international itineraries originating or terminating in the United States. Currently, a carrier's liability can be limited under the 1999 Montreal Convention to 4,694 SDR for damages caused by the delay of passengers and 1,131 SDR for damages resulting from the destruction, loss, damage, or delay of baggage. This rule removes references to agreements approved by CAB order. Carriers are provided until December 31, 2019, to comply with the signage requirements of this part, while compliance with the ticket notification changes is required on the effective date of this final rule. Airlines for America recommends that current stocks of paper notices be allowed to be used until exhausted. However, the change in liability amounts occurred in 2009 and we do not believe carriers still have significant stocks of paper notices with outdated information. See Inflation Adjustments to Liability Limits Governed by the Montreal Convention Effective December 30, 2009, 74 FR 59017 (Nov. 16, 2009). Moreover, the Department has consistently required that paper and e-ticket notices used to inform consumers of their rights and airline policies regarding such liability provide accurate information. Accordingly, we do not believe it is appropriate to allow airlines to continue to distribute inaccurate paper notices to the extent any are doing so.

Part 223 sets forth rules regarding free and reduced-rate transportation. This rule updates part 223 by removing references to specific sections of the “Act” such as “under section 408 of the Act.” Additionally, in § 223.1, the term “handicapped passenger” is used to describe a person with a disability. However, under the Americans with Disabilities Act (ADA), the current practice is to use “person-first” terminology (e.g., changes “handicapped person” to “person with a disability”). Where applicable, as the Department reviews its regulations, the term “handicapped” is replaced with the person-first terminology in alignment with the ADA. This rule removes the term “Handicapped passenger” and replaces it with the term “passenger with a disability.”

Part 232 established procedures for a party aggrieved by an order of the Postmaster General to request a review by DOT. In 2008, amendments to 49 U.S.C. 41902 removed from the statute the authority for the Secretary of Transportation to amend, modify, suspend, or cancel an order of the Postal Service (Pub. L. 110-405, Jan. 4, 2008). Accordingly, the statutory basis for part 232 regulations no longer exists and part 232 is removed.

Part 234 describes the requirements for filing airline service quality performance reports. The existing citation of authorities for this part contains an error. This rule corrects the error.

Part 241 describes a uniform system of accounts and reports for large carriers. This rule removes section 01 of part 241 which restated outdated statutory text and could lead to confusion if retained.

Part 272 established essential air service procedures for the Freely Associated States comprising the Federated States of Micronesia (Ponape, Truk and Yap), the Marshall Islands (Majuro and Kwajalein), and Koror in Palau. The procedures include requirements for airlines to file notice before suspending service, an obligation to continue to provide service when subsidy is available, and carrier-selection criteria. Section 272.12 states, “These provisions shall terminate on October 1, 1998, unless the essential air service program to the Federated States of Micronesia, the Marshall Islands and Palau is specifically extended by Congress.” Congress did not extend the program (Pub. L. 101-219, Sec. 110(b), (Dec.12,1989)). Thus, the statutory basis for the regulation no longer exists and part 272 is removed.

Part 300 sets forth the rules of conduct in DOT proceedings involving aviation economic and enforcement matters. Many of these rules set forth standards of ethical conduct applicable to DOT employees with respect to aviation economic matters. DOT employees are also subject to the ethics requirements of 49 CFR 99.735-1. In order to reduce the duplicative nature of both sets of ethics requirements and to minimize the potential for confusion over such requirements, several sections of part 300 are removed under this rule. The resulting regulations ensures consistent ethical standards across all employees of the agency.

Part 302 sets forth the Rules of Practice in Proceedings before the DOT. Part 305 describes the Rules of Practice for Informal Nonpublic Investigations undertaken by the Office of Aviation Enforcement and Proceedings. Part 385 sets forth the authorities and functions of various DOT officials. On August 17, 2012, the Department issued an extensive revision to 49 CFR part 1 (Organization and Delegation of Powers and Duties) [77 FR 49965]. The Department is revising parts 302, 305, and 385 to reflect the changes set forth in the revision to part 1.

Part 330 established procedures implementing the airline compensation section of the Air Transportation Safety and System Stabilization Act, which was enacted following the terrorist attacks of September 11, 2001, Public Law 107-42, (Sept. 22, 2001) (the Stabilization Act). Section 103 of the Stabilization Act appropriated up to $5 billion, to be administered by the Department of Transportation, to compensate air carriers for losses they incurred due to the attacks. Part 330 set out carrier eligibility criteria; forms for applying for the compensation payments; details on types of losses that would and would not be eligible for compensation; audit procedures; and details on a set-aside program for certain air taxis, commuter carriers, and other small carriers. Of the 427 applications processed, 407 applicants were deemed eligible under part 330. These carriers received payments in a total amount of $4.6 billion. All eligible appropriations were completed and payments processed and paid, and all functions and responsibilities under this section were fulfilled. As a result, part 330 serves no further purpose and is removed.

Part 374 specifies the Department's responsibility for enforcing air carrier and foreign air carrier compliance with the applicable requirements of the Consumer Credit Protection Act. This rule revises part 374 by updating the language in § 374.3 regarding references to Regulation B, 12 CFR part 202, and Regulation Z, 12 CFR part 226. Enforcement responsibility for parts 202 and 226 has been divided and reassigned among Federal government agencies. Accordingly, the language in § 374.3 is revised to reference the current applicable regulations, 12 CFR part 1026.

Part 380 is applicable to public charter air transportation in interstate or foreign air transportation. This rule revises part 380 by updating appendices A and B. Part 380 sets forth the Department's rules governing Public Charter air transportation of passengers whether furnished by direct air carriers or Public Charter Operators. Appendices A and B to part 380, respectively, contain the format for the Public Charter Operator's Surety Bond and the Public Charter Surety Trust Agreement. Since the existing appendices A and B to part 380 were published in 1998, various changes have been made to both documents. Therefore, appendices A and B is updated to provide the most current format for the Public Charter Operator's Surety Bond and the Public Charter Surety Trust Agreement.

In part 385, the Secretary of Transportation delegates certain continuing assignments of authority to Secretarial Officers regarding the Department's functions of issuing orders or other determinations pursuant to 49 U.S.C. 322 and 49 CFR part 1. The Secretary determined that several of the items currently prepared for decision at the Assistant Secretary level could be handled more efficiently at the Office Director level, thereby providing more time for the Assistant Secretary and immediate secretarial staff to concentrate on controversial and policy-sensitive issues. This action ensures that routine items are processed in a much more timely and efficient manner. Thus, this rulemaking amends §§ 385.12 and 385.13 to reflect the expanded assignments of authority to the Director of the Office of Aviation Analysis and the Director of the Office of International Aviation, both in the Office of the Assistant Secretary for Aviation and International Affairs.

Section 385.12 defines the authority of the Director of the Office of Aviation Analysis. This rule authorizes the Director to issue Essential Air Service (EAS) Requests for Proposals and certain final EAS selection orders. This expanded delegation alone relieves the Assistant Secretary for Aviation and International Affairs of reviewing nearly sixty orders per year, saving over three hundred (300) hours of senior management time and approximately one hundred twenty (120) hours of staff time in the Office of Aviation Analysis. This rule expands the Director's authority to issue quarterly fuel rate adjustments to Alaskan bush and mainline mail rates and to issue certain procedural orders in antitrust immunity cases processed under 49 U.S.C. 41308 and 41309. This rule also removes paragraphs (f), (h), and (i) of § 385.12, as these requirements are placed under the authority of the Director of the Office of International Aviation in § 385.13. Accordingly, paragraphs (g), (j), and (k) are re-designated.

Section 385.13 defines the authority of the Director of the Office of International Aviation. This rule amends paragraph (a) of § 385.13 to grant the Director the authority to issue final orders on uncontested tariff exemptions. This rulemaking also amends paragraph (b) to authorize the Director to issue final orders on uncontested applications for U.S. carrier certificate and foreign air carrier permit authority. Further, this action adds two new subsections regarding fares and tariffs and amends § 385.13(r)(1) to give the Director the authority to exempt IATA ¹ agreements under section 41309; this is in addition to the Director's existing authority to approve or disapprove such agreements. This rule also adds new paragraphs (z) through (dd) that: (1) Authorize the Director to issue orders and notices adjusting the Standard Foreign Fare Level; (2) authorize the Director to issue notices updating the list of country-pair markets in tariff-filing categories under part 293 of this chapter; (3) give the Director assigned authority as to certain matters processed by the Office of International Aviation's U.S. Air Carrier Licensing/Special Authorities Division; and (4) add requirements moved from § 385.12(f), (h), and (i).

¹ International Air Transport Association.

Sections 385.14 and 385.15 define the authority of the General Counsel and Deputy General Counsel, respectively. Consistent with the delegation of duties assigned in 49 CFR part 1, as revised on August 16, 2012, by 77 FR 49964, the Secretary assigned several duties to the General Counsel. Sections 385.14 and 385.15 are revised to reflect this assignment of duties. This rule removes § 385.15 and transfers its functions to § 385.14.

Part 389 describes fees and charges for special services. This rule amends part 389 by (1) removing references to organizations and position titles that no longer exist and replacing them with references to appropriate organizations and positions, (2) correcting the filing fees charged for special services to reflect a recent rulemaking action, (3) allowing for payment of filing fees using the internet, and (4) revising the descriptions of licenses for which the Department charges filing fees.

Part 398 establishes guidelines for the determination of basic essential air service. The Department amends part 398 by removing an outdated provision for funding reductions in § 398.11. Section 398.11 was superseded by Public Law 106-69, Title III, section 332, October 9, 1999, 113 Stat. 1022.

Part 399, subpart C, sets forth the Department's policies related to rates and tariffs. This rulemaking action removes fourteen sections from this subpart (§§ 399.30, 399.31, 399.32, 399.33, 399.34, 399.37, 399.40, 399.41, 399.42, 399.43, 399.44, 399.63, 399.101, and 399.111). These sections are obsolete because of the Airline Deregulation Act of 1978 and the Civil Aeronautics Board Sunset Act of 1984.

While not originally proposed in the notice of proposed rulemaking (NPRM) published on May 9, 2018 (83 FR 21684), this final rule also updates the section reference for the definition of small aircraft found in § 399.73 from “§ 298.3” to “§ 298.2”. Under the Administrative Procedure Act, an agency may waive the normal notice and comment procedures if the agency, for good cause, finds that those procedures are impracticable, unnecessary, or contrary to the public interest. See 5 U.S.C. 553(b)(B). Since this amendment is merely a minor technical correction, notice and comment are unnecessary.

III. Comment Discussion

OST received two comments in response to the NPRM and is adopting one drafting correction and a change in characterization of the coverage limits of the Montreal Convention that were proposed in the Airlines 4 America (A4A) comment. The second comment was filed by the International Air Transport Association (IATA).

The Department appreciates the constructive input by both commenters. However, as this rulemaking is intended as an administrative “clean-up” action, the majority of the IATA and A4A comments propose policy changes to the Department's regulations that were not contemplated in the NPRM underlying this final rule. Because the changes requested by the commenters are outside the scope of the NPRM, the Department declines to adopt them as part of this final rule. However, the Department will continue to consider them as we review our existing regulations as announced in an October 2, 2017, Notification of Regulatory Review (82 FR 45750).

OST is also adopting an additional, minor modification to a reference in § 399.73, as noted above. These changes are described further in the Discussion of the Final Rule section above.

IV. Regulatory Analyses and Notices

A. Executive Order 12866 and DOT Regulatory Policies and Procedures

This rulemaking is not a significant regulatory action under Executive Order 12866 and the Department's Regulatory Policies and Procedures. Its provisions involve technical amendments to update statutory references and to update the titles and addresses of offices. The rule also removes certain appendices, sections, and forms that are no longer relevant. This rule does not create any major policy changes or impose significant new costs or burdens.

B. Executive Order 13771 (Reducing Regulation and Controlling Regulatory Costs)

This final rule is considered an E.O. 13771 deregulatory action. This final rule repeals a number of sections and whole parts from the Code of Federal Regulations that have been identified as outdated, unnecessary, or ineffective, thus reducing the Department's regulatory footprint. This final rule also modifies the Department's other regulations to ensure that they are consistent with existing laws, procedures, and practice. Cost savings associated with this deregulatory action are not quantifiable.

C. Regulatory Flexibility Act

Pursuant to section 605 of the Regulatory Flexibility Act (RFA), 5 U.S.C. 605(b), as amended by the Small Business Regulatory Enforcement Fairness Act of 1996 (SBREFA), I hereby certify that this rulemaking does not have a significant impact on a substantial number of small entities. The final rule imposes no duties or obligations on small entities.

D. Executive Order 13132 (Federalism)

A rule has implications for federalism under Executive Order 13132, Federalism, if it has a substantial direct effect on State or local governments and would either preempt State law or impose a substantial direct cost of compliance on them. The Department has analyzed this rulemaking in accordance with the principles and criteria contained in the Order and determined that it does not have implications for federalism, since it merely makes technical amendments to the existing regulations. This final rule does not have a substantial direct effect on, or sufficient federalism implications for, the States, nor does it limit the policymaking discretion of the States.

E. Executive Order 13175

This final rule has been analyzed in accordance with the principles and criteria contained in Executive Order 13175 (“Consultation and Coordination with Indian Tribal Governments”). Because this rulemaking does not significantly or uniquely affect the communities of the Indian tribal governments or impose substantial direct compliance costs on them, the funding and consultation requirements of Executive Order 13175 do not apply.

F. Paperwork Reduction Act

The Paperwork Reduction Act of 1995 (PRA) (44 U.S.C. 3501 et seq.) requires that DOT consider the impact of paperwork and other information collection burdens imposed on the public and, under the provisions of PRA section 3507(d), obtain approval from the Office of Management and Budget (OMB) for each collection of information it conducts, sponsors, or requires through regulations. The DOT has determined there are no new information collection requirements associated with this final rule.

G. National Environmental Policy Act

The agency has analyzed the environmental impacts of this action pursuant to the National Environmental Policy Act of 1969 (NEPA) (42 U.S.C. 4321 et seq.) and has determined that it is categorically excluded pursuant to DOT Order 5610.1C, Procedures for Considering Environmental Impacts (44 FR 56420, Oct. 1, 1979). Categorical exclusions are actions identified in an agency's NEPA implementing procedures that do not normally have a significant impact on the environment and therefore do not require either an environmental assessment (EA) or environmental impact statement (EIS). The purpose of this rulemaking is to make editorial corrections, remove obsolete references, and update outdated provisions in the Department's aviation economic regulations. The agency does not anticipate any environmental impacts, and there are no extraordinary circumstances present in connection with this rulemaking.

List of Subjects

14 CFR Part 200

Air transportation.

14 CFR Part 201

Air carriers, Reporting and recordkeeping requirements.

14 CFR Part 203

Air carriers, Air transportation, Foreign relations, Insurance, Reporting and recordkeeping requirements.

14 CFR Part 204

Air carriers, Reporting and recordkeeping requirements.

14 CFR Part 205

Air carriers, Freight, Insurance, Reporting and recordkeeping requirements.

14 CFR Part 207

Air carriers, Charter flights.

14 CFR Part 208

Air carriers, Charter flights.

14 CFR Part 211

Administrative practice and procedure, Air carriers, Pacific Islands Trust Territory, Reporting and recordkeeping requirements.

14 CFR Part 212

Charter flights, Confidential business information, Reporting and recordkeeping requirements, Surety bonds.

14 CFR Part 214

Air carriers, Charter flights.

14 CFR Part 215

Air carriers, Reporting and recordkeeping requirements, Trade names.

14 CFR Part 216

Air carriers.

14 CFR Part 217

Air carriers, Reporting and recordkeeping requirements.

14 CFR Part 218

Air carriers, Aircraft, Airmen.

14 CFR Part 221

Air rates and fares, Freight, Reporting and recordkeeping requirements.

14 CFR Part 222

Air carriers, Freight, Intermodal transportation, Reporting and recordkeeping requirements.

14 CFR Part 223

Air rates and fares, Government employees, Reporting and recordkeeping requirements.

14 CFR Part 232

Administrative practice and procedure, Air carriers, Postal Service.

14 CFR Part 234

Air carriers, Consumer protection, Reporting and recordkeeping requirements.

14 CFR Part 240

Air carriers, Uniform System of Accounts.

14 CFR Part 241

Air carriers, Reporting and recordkeeping requirements, Uniform System of Accounts.

14 CFR Part 243

Air carriers, Aircraft, Charter flights, Reporting and recordkeeping requirements.

14 CFR Part 247

Air carriers, Airports.

14 CFR Part 248

Air carriers, Reporting and recordkeeping requirements, Uniform System of Accounts.

14 CFR Part 249

Air carriers, Reporting and recordkeeping requirements, Truth in lending, Uniform System of Accounts.

14 CFR Part 253

Air carriers, Consumer protection.

14 CFR Part 257

Air carriers, Air rates and fares, Consumer protection, Reporting and recordkeeping requirements.

14 CFR Part 258

Air carriers, Consumer protection, Reporting and recordkeeping requirements.

14 CFR Part 271

Air carriers, Grant programs-transportation.

14 CFR Part 272

Air carriers, Grant programs-transportation, Pacific Islands Trust Territory.

14 CFR Part 291

Administrative practice and procedure, Air carriers, Freight, Reporting and recordkeeping requirements.

14 CFR Part 294

Air taxis, Canada, Charter flights, Reporting and recordkeeping requirements.

14 CFR Part 296

Air carriers, Freight forwarders, Research.

14 CFR Part 297

Air carriers, Freight forwarders.

14 CFR Part 298

Air taxis, Reporting and recordkeeping requirements.

14 CFR Part 300

Administrative practice and procedure, Conflict of interests.

14 CFR Part 302

Administrative practice and procedure, Air carriers, Airports, Postal Service.

14 CFR Part 303

Administrative practice and procedure, Air carriers, Antitrust, Reporting and recordkeeping requirements.

14 CFR Part 305

Administrative practice and procedure, Air carriers, Investigations.

14 CFR Part 323

Administrative practice and procedure, Air carriers, Reporting and recordkeeping requirements

14 CFR Part 325

Administrative practice and procedure, Air transportation, Intergovernmental relations, Reporting and recordkeeping requirements.

14 CFR Part 330

Administrative practice and procedure, Air carriers, Grant programs-transportation

Reporting and recordkeeping requirements.

14 CFR Part 372

Charter flights, Military air transportation, Reporting and recordkeeping requirements, Surety bonds.

14 CFR Part 374

Air carriers, Consumer protection, Credit.

14 CFR Part 374a

Air carriers, Credit, Political candidates, Reporting and recordkeeping requirements.

14 CFR Part 375

Administrative practice and procedure, Aircraft, Foreign relations, Reporting and recordkeeping requirements.

14 CFR Part 377

Administrative practice and procedure, Air carriers.

14 CFR Part 380

Charter flights, Reporting and recordkeeping requirements, Surety bonds.

14 CFR Part 385

Organization and functions (Government agencies).

14 CFR Part 389

Administrative practice and procedure, Reporting and recordkeeping requirements.

14 CFR Part 398

Air transportation.

14 CFR Part 399

Administrative practice and procedure, Air carriers, Air rates and fares, Air taxis, Consumer protection, Small businesses.

The Amendment

In consideration of the foregoing, and under the authority of 49 U.S.C. 322, the Department amends title 14, chapter II of the Code of Federal Regulations as follows:

PART 200—DEFINITIONS AND INSTRUCTIONS

1. The authority citation for part 200 continues to read as follows:

Authority: 49 U.S.C. Chapters 401, 411, 413, 415, 417, and 461.

2. Section 200.1 is revised to read as follows:

§ 200.1 Terms and definitions.

For purposes of this chapter—

(a) Unless otherwise specifically stated, words and phrases other than those listed in this section have the meaning defined in 49 U.S.C. Subtitle VII.

(b) Department or DOT means the Department of Transportation.

(c) Predecessor means the Civil Aeronautics Board (CAB).

(d) Order refers to the rules, regulations, and orders prescribed by the Department pursuant to the 49 U.S.C. Subtitle VII or its orders that are, by law, still in effect.

(e) FAA means the Federal Aviation Administration, U.S. Department of Transportation.

(f) OST-R means the Office of the Assistant Secretary for Research and Technology, U.S. Department of Transportation.

(g) Secretary means the Secretary of Transportation, U.S. Department of Transportation.

PART 201—AIR CARRIER AUTHORITY UNDER SUBTITLE VII OF TITLE 49 OF THE UNITED STATES CODE

3. The authority citation for part 201 continues to read as follows:

Authority: 5 U.S.C. 1008; 49 U.S.C. Chapters 401, 411, 413, 415, 417.

4. Revise the heading for part 201 to read as set forth above.

5. Throughout part 201, remove the phrase “of the Statute” and add in its place “of 49 U.S.C. Subtitle VII”.

§ 201.1 [AMENDED]

6. In § 201.1(b), remove the words “DOT Dockets, 1200 New Jersey Avenue SE, Washington, DC 20590-0002” and add in their place the words “Docket Operations Office, U.S. Department of Transportation, Room W12-140, 1200 New Jersey Avenue SE, Washington, DC 20590-0001”.

§ 201.7 [AMENDED]

7. In § 201.7(e), remove the words “Office of Aviation Analysis” and add in their place the words “Office of International Aviation”.

PART 203—WAIVER OF WARSAW CONVENTION LIABILITY LIMITS AND DEFENSES

8. The authority citation for part 203 continues to read as follows:

Authority: 49 U.S.C. Chapters 401, 411, 413, 415, 417.

9. Section 203.3 is revised to read as follows:

§ 203.3 Filing requirements for adherence to Montreal Convention.

All direct U.S. and foreign air carriers shall have and maintain in effect and on file in the Department's Docket Operations Office (DOT-OST-1995-236) on OST Form 4523 a signed counterpart to Agreement 18900, an agreement relating to liability limitations of the Warsaw Convention and Hague Protocol, (the Montreal Agreement), dated May 13, 1966, and/or a signed counterpart of any amendment or replacement to such Agreement that may be approved by the Department and to which the air carrier or foreign air carrier becomes a party. U.S. air taxi operators registering under part 298 of this chapter and Canadian charter air taxi operators registering under part 294 of this chapter may comply with this requirement by filing completed OST Forms 4507 and 4523, respectively, in accordance with the provisions of those parts.

§ 203.4 [AMENDED]

10. Amend § 203.4 as follows:

a. In paragraph (a), remove the words “Tariffs Division” and add in their place the words “Pricing and Multilateral Affairs Division”.

b. In paragraph (b), remove the reference “§ 221.175” and add in its place the reference “§ 221.105”.

PART 204—DATA TO SUPPORT FITNESS DETERMINATIONS

11. The authority citation for part 204 continues to read as follows:

Authority: 49 U.S.C. Chapters 401, 411, 417.

12. Throughout part 204, remove the words “the Statute” and add in their place “49 U.S.C. Subtitle VII”.

13. In § 204.2, paragraphs (b) and (e) are revised to read as follows:

§ 204.2 Definitions.

* * * * *

(b) Certificate authority means authority to provide air transportation granted by the Secretary of Transportation in the form of a certificate of public convenience and necessity under 49 U.S.C. 41102 or an all-cargo air transportation certificate to perform all-cargo air transportation under 49 U.S.C. 41103. Certificated carriers are those that hold certificate authority, including those carriers operating by law under the regulatory provisions under the Department's predecessor.

* * * * *

(e) Eligible place means a place in the United States that meets the specified criteria outlined in 49 U.S.C. Chapter 417.

* * * * *

§ 204.4 [REMOVED AND RESERVED]

14. Section 204.4 is removed and reserved.

§ 204.5 [AMENDED]

15. Amend § 204.5 as follows:

a. In paragraph (c), remove the words “Washington, DC 20590, or by electronic submission at http://dms.dot.gov.” and add in their place the words “1200 New Jersey Avenue SE, Washington, DC 20590, or by electronic submission at http://www.regulations.gov.”

b. In paragraph (d), remove the words “Washington, DC 20590.” and add in their place the words “1200 New Jersey Avenue SE, Washington, DC 20590.”

§ 204.7 [AMENDED]

16. In § 204.7(b), remove the words “Documentary Services Division, Department of Transportation” and add in their place the words “Docket Operations Office, U.S. Department of Transportation.”

PART 205—AIRCRAFT ACCIDENT LIABILITY INSURANCE

17. The authority citation for part 205 continues to read as follows:

Authority: 49 U.S.C. Chapters 401, 411, 413, 417.

§ 205.4 [AMENDED]

18. In § 205.4(a), remove the reference “http://ostpxweb.dot.gov” and add in its place “https://www.transportation.gov/policy/aviation-policy/licensing/US-carriers”.

19. In § 205.6, revise the section heading and paragraph (b)(2) to read as follows:

§ 205.6 Prohibited exclusion of coverage.

* * * * *

(b) * * *

(2) Liability assumed by the carrier under an agreement to raise the liability limitations of the Warsaw Convention by signing a counterpart to an agreement of carriers (such as the Montreal Agreement, 18900, signed May 13, 1966, agreeing to a limit on the carrier's liability for injury or death of passengers of $75,000 per passenger), or any amendment to such agreement that may be approved by the Department and to which the carrier becomes a party.

PART 206—CERTIFICATES OF PUBLIC CONVENIENCE AND NECESSITY: SPECIAL AUTHORIZATIONS AND EXEMPTIONS

20. The authority citation for part 206 continues to read as follows:

Authority: 49 U.S.C. Chapters 401, 415, 417, 419.

21. Throughout part 206, remove the phrase “of the Statute” and add in its place “of 49 U.S.C. Subtitle VII”.

PART 207—[REMOVED]

22. Part 207 is removed.

PART 208—[REMOVED]

23. Part 208 is removed.

PART 211—APPLICATIONS FOR PERMITS TO FOREIGN AIR CARRIERS

24. The authority citation for part 211 continues to read as follows:

Authority: 49 U.S.C. Chapters 401, 411, 413, 415, 417.

§ 211.2 [AMENDED]

25. In § 211.2(b), remove the words “subpart F” and add in their place the words “subpart E”.

§ 211.20 [AMENDED]

26. In § 211.20(c)(2)(i), remove the colon and add in its place a semicolon.

§ 211.31 [AMENDED]

27. In § 211.31(d), remove the period and add in its place “; and”.

§ 211.32 [AMENDED]

28. In § 211.32, remove the words “section 801(a) of the Federal Aviation Act” and add in their place “49 U.S.C. 41307”.

PART 212—CHARTER RULES FOR U.S. AND FOREIGN DIRECT AIR CARRIERS

29. The authority citation for part 212 continues to read as follows:

Authority: 49 U.S.C. 40101, 40102, 40109, 40113, 41101, 41103, 41504, 41702, 41708, 41712, 46101.

§ 212.3 [AMENDED]

30. In § 212.3, paragraph (c)(i) is redesignated as paragraph (c)(1).

§ 212.10 [AMENDED]

31. In § 212.10(e)(1), remove the words “part in interest” and add in their place the word “person”.

§ 212.11 [AMENDED]

32. In § 212.11(b)(1), remove the words “authority sought to covered” and add in their place the words “authority sought is covered”.

PART 213—TERMS, CONDITIONS AND LIMITATIONS OF FOREIGN AIR CARRIER PERMITS

33. The authority citation for part 213 continues to read as follows:

Authority: 49 U.S.C. Chapters 401, 411, 413, 415, 417.

§ 213.1 [AMENDED]

34. In § 213.1, remove “This regulation” and add in its place “This part”.

§ 213.2 [AMENDED]

35. In § 213.2, remove “Rule 14 of part 302” and add in its place “§ 302.14 of this chapter (Rule 14 of part 302)”.

§ 213.5 [AMENDED]

36. In § 213.5(c), remove “Rule 14 of part 302 of this chapter” and add in its place “§ 302.14 of this chapter (Rule 14 of part 302)”.

PART 214—TERMS, CONDITIONS, AND LIMITATIONS OF FOREIGN AIR CARRIER PERMITS AUTHORIZING CHARTER TRANSPORTATION ONLY

37. Add an authority citation for part 214 to read as follows:

Authority: 49 U.S.C. 40101, 40102, 40109, 40113, 41504, 41708, 41712, and 46101.

PART 215—USE AND CHANGE OF NAMES OF AIR CARRIERS, FOREIGN AIR CARRIERS AND COMMUTER AIR CARRIERS

38. The authority citation for part 215 continues to read as follows:

Authority: 49 U.S.C. Chapters 401, 411, 413, 417.

39. Section 215.1 is revised to read as follows:

§ 215.1 Applicability.

This part applies to all certificated air carriers, commuter air carriers, and foreign direct air carriers and to initial and amended applications for authority, applications for certificate or permit transfers or reissuances, and registration of business names.

§ 215.4 [AMENDED]

40. Amend § 215.4 as follows:

a. In paragraph (a), remove the words “Licensing Division” and add in their place the words “Foreign Air Carrier Licensing Division”.

b. In paragraph (b), remove “Docket 17325” and add in its place “Docket DOT-OST-1995-236.”

PART 216—COMMINGLING OF BLIND SECTOR TRAFFIC BY FOREIGN AIR CARRIERS

41. The authority citation for part 216 continues to read as follows:

Authority: 49 U.S.C. Chapters 401, 413, 417.

42. Throughout part 216, remove the words “Board” and “Board's” wherever they appear and add in their place the words “Department” and “Department's”, respectively.

§ 216.1 [AMENDED]

43. Amend § 216.1 as follows:

a. In paragraph (a), remove the definition for “Act”.

b. In paragraph (b), remove the words “section 101 of the Act” and add in their place “49.U.S.C. 40102”.

§ 216.3 [AMENDED]

44. In § 216.3, remove the words “section 402 of the Act” and add in their place “49 U.S.C. 41301”.

§ 216.4 [AMENDED]

45. In § 216.4(a), remove the words “Director, Bureau of International Aviation” and add in their place the words “Director, Office of International Aviation”.

§ 216.5 [AMENDED]

46. In § 216.5, remove the words “part 375 of the Department's Special Regulations” and add in their place “part 375 of this chapter (the Department's Special Regulations)”.

PART 217—REPORTING TRAFFIC STATISTICS BY FOREIGN AIR CARRIERS IN CIVILIAN SCHEDULED, CHARTER, AND NONSCHEDULED SERVICES

47. The authority citation for part 217 is revised to read as follows:

Authority: 49 U.S.C. 329, 41102, 41301, 41708, and 41709.

§ 217.5 [AMENDED]

48. In § 217.5, remove “the appendix to § 217.10 of this part” everywhere it appears and add in its place “appendix A of this part”.

§ 217.6 [AMENDED]

49. In § 217.6(a), remove “the appendix to § 217.10 of this part” and add in its place “appendix A of this part”.

§ 217.8 [AMENDED]

50. In § 217.6, remove “the Appendix to § 217.10 of this part” and add in its place “appendix A of this part”.

§ 217.10 [AMENDED]

51. Amend § 217.10 as follows:

a. Remove “the appendix to this section” and add in its place “appendix A to this part”.

b. Remove the appendix to the section.

§ 217.11 [AMENDED]

52. In § 217.11(b), remove the words “subject to a maximum fine of $10,000 or imprisonment for not more than 5 years, or both,”.

53. Add appendix A to read as follows:

Appendix A to Part 217—Instructions to Foreign Air Carriers for Reporting Traffic Data on Form 41 Schedule T-100(f)

(a) General instructions.

(1) Description. Form 41 Schedule T-100(f) provides flight stage data covering both passenger/cargo and all cargo operations in scheduled and nonscheduled services. The schedule is used to report all flights which serve points in the United States or its territories as defined in this part.

(2) Applicability. Each foreign air carrier holding a section 41302 permit or exemption authority shall file Schedule T-100(f).

(3) Reports required by this section shall be submitted to the Bureau of Transportation Statistics in a format specified in accounting and reporting directives issued by the Bureau of Transportation Statistics' Director of Airline Information.

(4) Filing period. Form 41 Schedule T-100(f) shall be filed monthly and is due at the Department thirty (30) days following the end of the reporting month to which the data are applicable.

(b) Preparation of Form 41 Schedule T-100(f):

(1) Explanation of nonstop segments and on-flight markets. There are two basic categories of data, one pertaining to nonstop segments and the other pertaining to on-flight markets. For example, the routing (A-B-C-D) consists of three nonstop segment records A-B, B-C, and C-D, and six on-flight market records A-B, A-C, A-D, B-C, B-D, and C-D.

(2) Guidelines for reporting a nonstop segment. A nonstop segment is reported when one or both points are in the United States or its territories. These data shall be merged with that for all of the other reportable nonstop operations over the same segment. Nonstop segment data must be summarized by aircraft type, under paragraph (h)(1) of this appendix, and class of service, paragraph (g)(1)(v) of this appendix.

(3) Rules for determining a reportable on-flight market. On-flight markets are reportable when one or both points are within the U.S., with the following exceptions: (i) Do not report third country to U.S. markets resulting from flight itineraries which serve a third country prior to a homeland point in flights passing through the homeland bound for the U.S.; and (ii) do not report U.S. to third country markets resulting from itineraries serving third country points subsequent to a homeland point in flights outbound from the U.S. and passing through the homeland. In reporting data pertaining to these two exceptions, the traffic moving to or from the U.S. relating to the applicable prior or subsequent third countries (referred to as “behind” or “beyond” traffic) is to be combined with the applicable foreign homeland gateway point, just as though the traffic were actually enplaned or deplaned at the homeland gateway, without disclosure of the actual prior or subsequent points. Applicable flights are illustrated in examples (6) and (7) under paragraph (c) of this appendix.

(c) Examples of flights. Following are some typical flight itineraries that show the reportable nonstop segment and on-flight market entries. The carrier's homeland is the key factor in determining which on-flight markets are reportable.

(1) SQ flight # 11 LAX—NRT—SIN. This is an example of a flight with an intermediate foreign country. It is not necessary to report anything on the NRT—SIN leg.

SQ—Singapore Airlines

LAX—Los Angeles, USA

NRT—Tokyo-Narita, Japan

SIN—Singapore, Singapore

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
LAX | NRT | X |  |  |  |  | 8161 | 12 | 2400 | 4800 | 400 | 500
LAX | SIN | X |  |  |  |  |  |  |  |  | 2000 | 4300

(2) SQ flight #15 LAX—HNL—TPE—SIN. This is an example of two U.S. points, an intermediate third country, and a homeland point. Information is reportable on only the on-flight markets and nonstop segments that consist of one or both U.S. points.

SQ—Singapore Airlines

LAX—Los Angeles, USA

HNL—Honolulu, USA

TPE—Taipei, Taiwan

SIN—Singapore, Singapore

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
LAX | HNL | X |  |  |  |  | 8161 | 12 | 2700 | 5300 | 0 | 0
LAX | TPE | X |  |  |  |  |  |  |  |  | 700 | 1300
LAX | SIN | X |  |  |  |  |  |  |  |  | 2000 | 4000
HNL | TPE | X |  |  |  |  | 8161 | 12 | 2200 | 6800 | 1200 | 800
HNL | SIN | X |  |  |  |  |  |  |  |  | 1000 | 6000

(3) LB flight # 902 LPB-VVI-MAO-CCS-MIA. This flight serves two homeland points and two different foreign countries before terminating in the U.S. Nonstop segment information is required only for the nonstop segment involving a U.S. point. On-flight market information is required in 4 of the 10 markets, LPB-MIA and VVI-MIA, since these involve homeland and U.S. points; MAO-MIA is necessary to show traffic carried into the U.S., and CCS-MIA for the same reason, and also because in all cases where a nonstop segment entry is required, a corresponding on-flight market entry must also be reported.

LB—Lloyd Aero Boliviano

LPB—La Paz, Bolivia

VVI—Santa Cruz-Viru Viru, Bolivia

MAO—Manaus, Brazil

CCS—Caracas, Venezuela

MIA—Miami, USA

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
CCS | MIA | X |  |  |  |  | 8161 | 31 | 6900 | 71000 | 0 | 0
LPB | MIA | X |  |  |  |  |  |  |  |  | 1100 | 20000
VVI | MIA | X |  |  |  |  |  |  |  |  | 4000 | 30000
MAO | MIA | X |  |  |  |  |  |  |  |  | 1000 | 12000

(4) LY flight #005 TLV-AMS-ORD-LAX. This flight serves a single foreign intermediate point and two U.S. points after its homeland origination. The information on the TLV-AMS leg is not reportable.

LY—El Al Israel Airlines

TLV—Tel Aviv, Israel

AMS—Amsterdam, Netherlands

ORD—Chicago, USA

LAX—Los Angeles, USA

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
AMS | ORD | X |  |  |  |  | 8161 | 1 | 350 | 10000 | 50 | 1500
TLV | ORD | X |  |  |  |  |  |  |  |  | 150 | 4000
TLV | LAX | X |  |  |  |  |  |  |  |  | 125 | 3000
ORD | LAX | X |  |  |  |  | 8161 | 1 | 150 | 4500 | 0 | 0
AMS | LAX | X |  |  |  |  |  |  |  |  | 25 | 1500

(5) QF flight #25 SYD—BNE—CNS—HNL—YVR. This flight serves three homeland points, a U.S. point, and a subsequent third country. Nonstop segment information is required on the respective legs into and out of the United States. All on-flight market entries involving the U.S. point HNL are also required. Data are not required on the homeland to homeland markets, or the homeland—third country markets.

QF—Qantas Airways (Australia)

SYD—Sydney, Australia

BNE—Brisbane, Australia

CNS—Cairns, Australia

HNL—Honolulu, USA

YVR—Vancouver, Canada

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
CNS | HNL | X |  |  |  |  | 8161 | 5 | 2200 | 41000 | 400 | 8000
SYD | HNL | X |  |  |  |  |  |  |  |  | 600 | 10000
BNE | HNL | X |  |  |  |  |  |  |  |  | 600 | 9000
HNL | YVR | X |  |  |  |  | 8161 | 5 | 750 | 15700 | 150 | 1700

(6) JL flight #002 HKG—NRT—SFO. This flight originates in a third country prior to the homeland. No data is required on the HKG-NRT leg, but the HKG-SFO passengers and cargo shall be shown as enplanements in the NRT-SFO on-flight market entry. These volumes are included by definition in the passenger and cargo transported volumes of the NRT-SFO nonstop segment entry.

JL—Japan Air Lines

HKG—Hong Kong, Hong Kong

NRT—Tokyo-Narita, Japan

SFO—San Francisco, USA

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
NRT | SFO | X |  |  |  |  | 8161 | 3 | 1200 | 18000 | 1200 | 18000

(7) JL flight #001 SFO-NRT-HKG. This flight is the reverse sequence of flight #002 above; it requires a nonstop segment entry covering SFO-NRT, and a single on-flight market entry also for SFO-NRT. In this case, the on flight traffic enplaned at SFO and destined for HKG, a beyond homeland point, shall be included in the SFO-NRT entry; a separate SFO-HKG entry is not required.

JL—Japan Air Lines

SFO—San Francisco, USA

NRT—Tokyo-Narita, Japan

HKG—Hong Kong, Hong Kong

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
SFO | NRT | X |  |  |  |  | 8161 | 1 | 400 | 20000 | 400 | 20000

(8) BA flight #5 LHR-ANC-NRT-OSA. This example contains a single homeland point and a single U.S. point followed by two third country points. It is necessary to report the nonstop segments into and out of the U.S., and all three of the on-flight markets which have the U.S. point ANC as either an origin or destination.

BA—British Airways

LHR—London, England

ANC—Anchorage, USA

NRT—Tokyo-Narita, Japan

OSA—Osaka, Japan

A-3—Airport code: Origin | A-4—Airport code: Destination | A-5—Service class (mark an X): F | A-5—Service class (mark an X): G | A-5—Service class (mark an X): L | A-5—Service class (mark an X): P | A-5—Service class (mark an X): Q | By aircraft type—: B-1—Aircraft type code | By aircraft type—: B-2— Revenue aircraft departures | By aircraft type—: B-3— Revenue passengers transported | By aircraft type—: B-4— Revenue freight transported (kg) | Sum of all aircraft types—: C-1—Total revenue passengers in market | Sum of all aircraft types—: C-2—Total revenue freight in market (kg)
LHR | ANC | X |  |  |  |  | 8161 | 10 | 3000 | 50000 | 100 | 1000
ANC | NRT | X |  |  |  |  | 8161 | 10 | 3150 | 55000 | 100 | 2500
ANC | OSA | X |  |  |  |  |  |  |  |  | 150 | 1500

(d) Provisions to reduce paperwork:

(1) Nonstop Segment Entries. The flight stage data applicable to nonstop segment entries must be summarized to create totals by aircraft equipment type, within service class, within pairs-of-points.

(2) On-flight Market Entries. The applicable on-flight market entries shall be summarized to create totals by service class within pair-of-points.

(e) Preparation of Schedule T-100 (f):

(1) Section A—Indicative and flight pattern information. A copy of Schedule T-100(f) is shown at the end of this appendix. Section A defines the origin and destination points and the service class code to which the nonstop segment data in Section B and the on-flight market data in Section C are applicable. Section A information, along with the carrier code and report date, must be included on each schedule.

(2) Section B—Nonstop segment information. Section B of the schedule is used for reporting nonstop segment information by aircraft type. To reduce the number of schedules reported, space is provided for including data on multiple different aircraft types. Similarly, the on-flight market section has been included on a single Schedule T-100(f), along with the nonstop segment data, rather than on a separate schedule.

(3) Section C—On-flight market information. Section C of the schedule is used for reporting on-flight market data. There will always be an on-flight market that corresponds to the nonstop segment. Because the on-flight market data are reported at the service class level rather than by aircraft type, a specific flight may produce more on-flight markets than nonstop segments, (see examples in paragraph (c) of this appendix), resulting in data reported in sections A and C only.

(f) [Reserved]

(g) Data element definitions:

(1) Service pattern information.

(i) Line A-1 Carrier code. Use the carrier code established by the Department. This code is provided to each carrier in the initial reporting letter from the Office of Airline Information (OAI). If there are any questions about these codes, contact the OAI Data Administration Division at the address in paragraph (a)(3) of this appendix.

(ii) Line A-2 Report date. This is the year and month to which the data are applicable. For example, 200009 indicates the year 2000, and the month of September.

(iii) Line A-3 Origin airport code. This is the departure airport, where an aircraft begins a flight segment, and where the passengers originate in an on-flight market. Use the 3-letter code from the City/Airport Codes section of the Official Airline Guide Worldwide Edition. If no 3-letter code is available, OAI will assign one; the address is in paragraph (a)(3) of this appendix.

(iv) Line A-4 Destination airport code. This is the arrival airport, where an aircraft stops on a flight segment, and where passengers deplane (get off the flight) after reaching their destination in a market. Use the 3-letter code from the source described in paragraph (g)(1)(iii) of this appendix.

(v) Line A-5 Service class code. Select one of the following single letter codes which describes the type of service being reported on a given flight operation.

F = Scheduled Passenger/cargo Service

G = Scheduled All-cargo Service

L = Nonscheduled Civilian Passenger/Cargo Charter

P = Nonscheduled Civilian All-Cargo Charter

Q = Nonscheduled Services (Other than Charter)

(2) Nonstop segment information:

(i) Line B-1 Aircraft type code. Use the four digit numeric code prescribed in paragraph (h)(1) of this appendix. If no aircraft type code is available, OAI will assign one. The address is in paragraph (a)(3) of this appendix.

(ii) Line B-2 Aircraft departures performed. This is the total number of physical departures performed with a given aircraft type, within service class and pair-of-points.

(iii) Line B-3 Revenue passengers transported. This is the total number of revenue passengers transported on a given nonstop segment. It represents the total number of revenue passengers on board over the segment without regard to their actual point of enplanement.

(iv) Line B-4 Revenue freight transported. This item is the total weight in kilograms (kg) of the revenue freight transported on a given nonstop segment without regard to its actual point of enplanement.

(3) On-flight market information:

(i) Line C-1 Total revenue passengers in market. This item represents the total number of revenue passengers, within service class, that were enplaned at the origin airport and deplaned at the destination airport.

(ii) Line C-2 Total revenue freight in market. This item represents the total weight in kilograms (kg) of revenue freight enplaned at the origin and deplaned at the destination airport.

(h) [Reserved]

(i) Joint Service.

(1) The Department may authorize joint service operations between two direct air carriers. Examples of these joint service operations are:

Blocked-space agreements;

Part-charter agreements;

Code-sharing agreements;

Wet-lease agreements, and similar arrangements.

(2) Joint-service operations shall be reported on BTS Form 41 Schedules T-100 and T-100(f) by the air carrier in operational control of the flight, i.e., the air carrier that uses its flight crew to perform the operation. If there are questions about reporting a joint-service operation, contact the BTS Assistant Director—Airline Information at the address in paragraph (a)(3) of this appendix.

(j) [Reserved]

PART 218—LEASE BY FOREIGN AIR CARRIER OR OTHER FOREIGN PERSON OF AIRCRAFT WITH CREW

54. The authority citation for part 218 is revised to read as follows:

Authority: 49 U.S.C. 40113 and 41301.

§ 218.2 [AMENDED]

55. In § 218.2, remove the words “section 402 of the Act” and add in their place “49 U.S.C. 41301”.

§ 218.3 [AMENDED]

56. Amend § 218.3 as follows:

a. In paragraph (a)(1), remove the words “section 402 of the Act” and add in their place “49 U.S.C. 41301”.

b. In paragraph (a)(2), remove the words “section 416 of the Act” and add in their place “49 U.S.C. 40109”.

c. In paragraphs (a)(2) and (3), remove the word “Board” and add in its place the word “Department”.

§ 218.5 [AMENDED]

57. In § 218.5, remove the word “Board” each place it appears and add in its place the word “Department”.

§ 218.6 [AMENDED]

58. In § 218.6, remove the word “Board” and add in its place the word “Department”.

PART 221—TARIFFS

59. The authority citation for part 221 continues to read as follows:

Authority: 49 U.S.C. 40101, 40109, 40113, 46101, 46102, chapter 411, chapter 413, chapter 415 and chapter 417, subchapter I.

60. Throughout part 221, remove the words “of the statute” and add in their place “of 49 U.S.C. Subtitle VII”.

§ 221.3 [AMENDED]

61. In § 221.3, remove the definitions for “Department” and “Statute”.

62. Section 221.105 is revised to read as follows:

§ 221.105 Special notice of limited liability under international treaty.

(a)(1) In addition to the other requirements of this subpart, each air carrier and foreign air carrier which, to any extent, avails itself of the limitation on liability to passengers provided by an international treaty, shall, at the time of delivery of the ticket, furnish to each passenger whose transportation is governed by the international treaty and whose place of departure or place of destination is in the United States, the following statement in writing:

Advice to International Passengers on Limitations of Liability

Passengers embarking upon a journey involving an ultimate destination or a stop in a country other than the country of departure are advised that the provisions of an international treaty (the Warsaw Convention, the 1999 Montreal Convention, or other treaty), as well as a carrier's own contract of carriage or tariff provisions, may be applicable to their entire journey, including any portion entirely within the countries of departure and destination. The applicable treaty governs and may limit the liability of carriers to passengers for death or personal injury, destruction or loss of, or damage to, baggage, and for delay of passengers and baggage.

Additional protection can usually be obtained by purchasing insurance from a private company. Such insurance is not affected by any limitation of the carrier's liability under an international treaty. For further information please consult your airline or insurance company representative.

(2) The statement prescribed in paragraph (a)(1) of this section shall be printed or displayed in type at least as large as 10-point modern type and in a form that contrasts with the stock or background on:

(i) Each ticket, including electronic tickets;

(ii) A piece of paper either placed in the ticket envelope with the ticket or attached to the ticket; or

(iii) The ticket envelope.

(3) When a carrier is a signatory of a Department-approved intercarrier agreement implementing an international treaty, and such agreement contains specific text a carrier may use as a notice to international passengers regarding carrier liability, the carrier may substitute the exact text contained in the intercarrier agreement in lieu of the required text of the notice quoted in paragraph (a)(1) of this section.

(b) By December 31, 2019, each air carrier and foreign air carrier which, to any extent, avails itself of the limitation on liability to passengers provided by an international treaty, shall also cause to be displayed continuously in a conspicuous public place at each desk, station, and position in the United States which is in the charge of a person employed exclusively by it or by it jointly with another person, or by any agent employed by such air carrier or foreign air carrier to sell tickets to passengers whose transportation may be governed by an international treaty and whose place of departure or destination may be in the United States, a sign which shall have printed thereon the statement prescribed in paragraph (a)(1) of this section.

(c) It shall be the responsibility of each carrier to ensure that travel agents authorized to sell air transportation for such carrier comply with the notice provisions of paragraphs (a) and (b) of this section.

(d) Any air carrier or foreign air carrier subject to the provisions of this section which wishes to use a notice of limited liability of its own wording, but containing the substance of the language prescribed in paragraphs (a) and (b) of this section, may substitute a notice of its own wording upon approval by the Department.

(e) The requirements as to time and method of delivery of the notice (including the size of type) specified in paragraphs (a) and (b) of this section and the requirement with respect to travel agents specified in paragraph (c) of this section may be waived by the Department upon application and showing by the carrier that special and unusual circumstances render the enforcement of the regulations impractical and unduly burdensome and that adequate alternative means of giving notice are employed.

(f) Applications for relief under paragraphs (d) and (e) of this section shall be filed with the Department's Office of International Aviation not later than 15 days before the date on which such relief is requested to become effective.

(g) Notwithstanding any other provisions of this section, no air taxi operator subject to part 298 of this subchapter shall be required to give the notices prescribed in this section, either in its capacity as an air carrier or in its capacity as an agent for an air carrier or foreign air carrier.

§ 221.106 [REMOVED AND RESERVED]

63. Section 221.106 is removed and reserved.

PART 222—INTERMODAL CARGO SERVICES BY FOREIGN AIR CARRIERS

64. The authority citation for part 222 is revised to read as follows:

Authority: 49 U.S.C. 40113 and 41301.

§ 222.2 [AMENDED]

65. In § 222.2(a) and (d), remove the word “Board” each place it appears and add in its place the word “Department”.

66. In § 222.3, paragraphs (a) and (b) are revised to read as follows:

§ 222.3 Application for Statement of Authorization.

(a) Application for a Statement of Authorization shall be filed with the Department's Foreign Air Carrier Licensing Division, Office of International Aviation, in duplicate, on OST Form 4500. In most cases, the Department will act upon applications for Statements of Authorization within 60 days.

(b) Persons objecting to an application for a Statement of Authorization shall file their objections with the Foreign Air Carrier Licensing Division, Office of International Aviation, within 28 days of the filing date of the application. The Department will list the names and nationalities of all persons applying for Statements of Authorization in its Weekly Summary of Filings.

* * * * *

§ 222.4 [AMENDED]

67. Amend § 222.4 as follows:

a. In paragraph (a) introductory text, remove the word “Board” and add in its place the word “Department”.

b. In paragraph (a)(1), remove “CAB Form 222” and “Form 222” and add in their place “OST Form 4500” and “Form 4500”, respectively.

c. In paragraph (b), remove the word “Board's” and add in its place the word “Department's”.

§ 222.5 [AMENDED]

68. In § 222.5, remove the word “Board” each place it appears and add in its place the word “Department”.

Appendix A to Part 222 [REMOVED]

69. Appendix A to part 222 is removed.

PART 223—FREE AND REDUCED-RATE TRANSPORTATION

70. The authority citation for part 223 is revised to read as follows:

Authority: 49 U.S.C. 40113, 40114, and 41711.

71. Section 223.1 is revised to read as follows:

§ 223.1 Definitions.

As used in this part, unless the context otherwise requires:

Affiliate of a carrier means a person:

(1) Who controls that carrier, or is controlled by that carrier or by another person who controls or is controlled by that carrier; and

(2) Whose principal business in purpose or in fact is:

(i) The holding of stock in one or more carriers;

(ii) Transportation by air or the sale of tickets therefor;

(iii) The operation of one or more airports, one or more of which are used by that carrier or by another carrier who controls or is controlled by that carrier or that is under common control with that carrier by another person; or

(iv) Activities related to the transportation by air conducted by that carrier or by another carrier that controls or is controlled by that carrier or which is under common control with that carrier by another person.

Air carrier means the holder of a certificate of public convenience and necessity issued by the Department under 49 U.S.C. 41102 authorizing the carriage of persons. This definition is applicable to a holder of a certificate issued by the Civil Aeronautics Board before its sunset in 1984.

Attendant means any person required by a passenger with a disability in order to travel, whether or not that person's services are required while the passenger with a disability is in an aircraft.

Carrier means:

(1) An air carrier;

(2) An all-cargo air carrier operating under 49 U.S.C. 41102, 41103;

(3) A foreign air carrier;

(4) An intrastate carrier;

(5) An air taxi (including a commuter air carrier) operating under part 294 or 298 of this chapter; and

(6) Any person operating as a common carrier by air, or in the carriage of mail by air, or conducting transportation by air, in a foreign country.

Delivery flight means a flight from a point in the United States where a carrier has taken delivery of a newly manufactured aircraft to any point or points on its route system.

Foreign air carrier means the holder of a permit issued by the Department under 49 U.S.C. 41302 authorizing the carriage of persons. This definition is applicable to a holder of a certificate issued by the Civil Aeronautics Board before its sunset in 1984.

Free transportation means the carriage by an air carrier or foreign air carrier of any person or property (other than property owned by that carrier) in air transportation without compensation therefore.

Inaugural flight means a flight on an aircraft type being introduced by a carrier for the first time on a route, even if that aircraft type has been used by that carrier on other routes or on that route by other carriers.

Passenger with a disability means any person who has a physical or mental impairment (other than drug addiction or alcoholism), that substantially limits one or more major life activities.

Pass means a written authorization, other than actual ticket stock, issued by a carrier for free or reduced-rate transportation of persons or property.

Reduced-rate transportation means the carriage by an air carrier or foreign air carrier of any person or property (other than property owned by such carrier) in air transportation for a compensation less than that specified in the tariffs of that carrier on file with the Department and otherwise applicable to such carriage.

Retired means:

(1) With respect to carrier directors, officers, and employees, persons receiving retirement benefits from any carrier; and

(2) With respect to the general public, persons not regularly working at a full-time paying job, and not intending to do so in the future.

§ 223.2 [AMENDED]

72. In § 223.2, remove the words “section 401 of the Act” everywhere they appear and add in their place “49 U.S.C. 41102”.

§ 223.6 [AMENDED]

73. In § 223.6(c), remove the word “Board” and add in its place the word “Department”.

§ 223.21 [AMENDED]

74. In § 223.21(a), remove the words “section 403(b) of the Act” and add in their place “49 U.S.C. 41511”.

§ 223.22 [AMENDED]

75. In § 223.22:

a. In the introductory text, remove the words “sections 403 and 404(b) of the Act” and add in their place “49 U.S.C. 41510 and 41310(b)”.

b. In paragraphs (b) introductory text and (b)(1), remove the word “Board” and add in its place the word “Department”.

§ 223.23 [AMENDED]

76. In § 223.23(a), remove the word “Board” and add in its place the word “Department”.

§ 223.25 [AMENDED]

77. In § 223.25(c), remove the word “Board” and add in its place the word “Department”.

PART 232—[REMOVED]

78. Part 232 is removed.

PART 234—AIRLINE SERVICE QUALITY PERFORMANCE REPORTS

79. The authority citation for part 234 is revised to read as follows:

Authority: 49 U.S.C. 329, 41708, and 41709.

PART 240—INSPECTION OF ACCOUNTS AND PROPERTY

80. Add an authority citation for part 240 to read as follows:

Authority: 49 U.S.C. 40113, 40114, 41711, 41708, and 41709.

81. Section 240.1 is revised to read as follows:

§ 240.1 Interpretation.

(a) In the exercise of the authority granted by 49 U.S.C. 41709, the authority of any special agent or auditor to inspect and examine lands, buildings, equipment, accounts, records, memorandums, papers or correspondence shall include the authority to make such notes and copies thereof as he or she deems appropriate.

(b) The terms “special agent” and “auditor” are construed to mean any employee of the Office of Aviation Enforcement and Proceedings and any other employee of the Department specifically designated by it or by the Director, Office of Security.

(c) The issuance in the form set forth in this paragraph (c) of an identification card and credentials to any such employee shall be construed to be an order and direction of the Department to such individual to inspect and examine lands, buildings, equipment, accounts, records, and memorandums in accordance with the authority conferred on the Department by 49 U.S.C. Subtitle VII.

THE UNITED STATES OF AMERICA, DEPARTMENT OF TRANSPORTATION, OFFICE OF THE SECRETARY OF TRANSPORTATION

[photo]

[number]

[expiration date]

IS APPOINTED

[title]

The bearer of this credential whose name and photograph appear hereon is authorized to enter upon, to inspect, and examine lands, buildings (including airport facilities), and equipment (including aircraft) of air carriers and foreign air carriers, and to inspect and copy records and papers of air carriers, foreign air carriers and ticket agents, in performance of his/her duties under 49 U.S.C. 41709, related acts, and regulations of the Department.

BY DIRECTION OF THE SECRETARY

§ 240.2 [AMENDED]

82. Amend § 240.2 as follows:

a. Remove the word “Board” and add in its place the word “Department”.

b. Remove the word “him” and add in its place the words “him or her”.

c. Remove “(a)” and “(b)”.

d. Remove the word “he” and add in its place the words “he or she”.

PART 241—UNIFORM SYSTEM OF ACCOUNTS AND REPORTS FOR LARGE CERTIFICATED AIR CARRIERS

83. The authority citation for part 241 is revised to read as follows:

Authority: 49 U.S.C. 329, 41101, 41708, and 41709.

Section 01 [REMOVED AND RESERVED]

84. Section 01 is removed and reserved.

85. In Section 03, remove the definition for “Act” and revise the definitions for “Air transportation, charter” and “Route, certificated” to read as follows:

Section 03 Definitions for Purposes of This System of Accounts and Reports.

* * * * *

Air transportation, charter. Air transportation authorized pursuant to 49 U.S.C. 41102.

* * * * *

Route, certificated. The route(s) over which an air carrier is authorized to provide air transportation by a Certificate of Public Convenience and Necessity issued by the Department of Transportation pursuant to 49 U.S.C. 41102. This definition is applicable to an air carrier issued a Certificate of Public Convenience by the Civil Aeronautics Board before its sunset in 1984.

* * * * *

Section 04 [AMENDED]

86. In Section 04(b), remove the words “The Office of Airline Statistics” and add in their place “The Office of Airline Information”.

Section 12 [AMENDED]

87. In Section 12, under heading 77, in paragraph (b), remove the words “, in the absence of such action by the Civil Aeronautics Board,”.

Sec. 19-6 [AMENDED]

88. In Sec. 19-6(b)(2), remove the words “Department under Title IV of the Federal Aviation Act of 1958, as amended,” and add in their place the words “Department under 49 U.S.C. Subtitle VII,”.

89. Amend Sec. 19-7 as follows:

a. In paragraph (a), in the last sentence, remove “K-25” and add in its place “RTS-42”.

b. In appendix A, subsection I.B., in the first paragraph, revise the last sentence.

The revision reads as follows:

Sec. 19-7 Passenger origin-destination survey.

* * * * *

Appendix A to § 19-7—Instructions to Air Carriers for Collecting and Reporting Passenger Origin-Destination Survey Statistics

* * * * *

I. * * *

B. * * *

* * * The authority for these instructions is found in 14 CFR part 241, sec. 19-7.

* * * * *

Section 21 [AMENDED]

90. Amend Section 21(a) as follow:

a. Remove the words “subject to the Federal Aviation Act of 1958, as amended,”.

b. Remove the words “Civil Aeronautics Board” and add in their place the word “BTS”.

91. Amend Section 22 as follows:

a. In paragraph (a), in the table entitled “List of Schedules in the BTS Form 41 Report”, revise the entry for Schedule No. P-2.

b. In paragraphs (c) and (j), remove the word “Board” each place it appears and add in its place the word “BTS”.

The revision reads as follows:

Section 22 General Reporting Instructions.

(a) * * *

List of Schedules in BTS Form 41 Report
[See footnotes at end of table]
Schedule No. | Title | Filing frequency | Applicability by carrier group: I | Applicability by carrier group: II | Applicability by carrier group: III
* * * * * * *
P-2 | Notes to BTS Form 41 report | Q | (1) | X | X
* * * * * * *

* * * * *

Section 24 [AMENDED]

92. In Section 24, Schedule P-5.1, in paragraph (e), remove the words “Board's Information Management Division” and add in their place the words “Office of Airline Information, RTS-42”.

PART 243—PASSENGER MANIFEST INFORMATION

93. The authority citation for part 243 continues to read as follows:

Authority: 49 U.S.C. 40101, 40101nt., 40105, 40113, 40114, 41708, 41709, 41711, 41501, 41702, 41712, 44909, 46301, 46310, 46316; section 203 of Pub. L. 101-604, 104 Stat. 3066 (22 U.S.C. 5501-5513), Title VII of Pub. L. 104-264, 110 Stat. 3213 (22 U.S.C. 5501-5513) and Pub. L. 105-148, 111 Stat. 2681 (49 U.S.C. 41313.)

§ 243.11 [AMENDED]

94. In § 243.11(c), remove the words “Family Support Services” and add in their place the words “Transportation Disaster Assistance”.

§ 243.13 [AMENDED]

95. Amend § 243.13(c) as follows:

a. Remove the words “Dockets Facility (SVC-121.30)” and add in their place the words “Dockets Management Facility (M-90)”.

b. Remove the words “by July 1, 1998, or, for covered airlines beginning operations after July 1, 1998,”.

PART 247—DIRECT AIRPORT-TO-AIRPORT MILEAGE RECORDS

96. The authority citation for part 247 continues to read as follows:

Authority: 49 U.S.C. chapter 401.

§ 247.1 [AMENDED]

97. In § 247.1, remove the words “Titles IV and X of the Federal Aviation Act of 1958, as amended” and add in their place “49 U.S.C. Subtitle VII (Transportation)”.

§§ 247.2 through 247.10 [ADDED AND RESERVED]

98. Add reserved §§ 247.2 through 247.10.

PART 248—SUBMISSION OF AUDIT REPORTS

99. The authority citation for part 248 is revised to read as follows:

Authority: 49 U.S.C. 329, 41102, 41708, and 41709.

§ 248.2 [AMENDED]

100. In § 248.2(b), remove the words “Board's Office of the Comptroller” and add in their place the words “Bureau of Transportation Statistics' (BTS) Office of Airline Information”.

PART 249—PRESERVATION OF AIR CARRIER RECORDS

101. The authority citation for part 249 continues to read as follows:

Authority: 49 U.S.C. 329 and chapters 401, 411, 413, 417.

§§ 249.6 and 249.10 [AMENDED]

102. In §§ 249.6(a) and 249.10, remove “this regulation” and add in its place “this part”.

§ 249.7 [AMENDED]

103. In § 249.7(b), remove the word “Board” and add in its place the word “Department”.

§ 249.9 [AMENDED]

104. In § 249.9, remove “these regulations” and add its place “this part”.

PART 251—CARRIAGE OF MUSICAL INSTRUMENTS

105. The authority citation for part 251 continues to read as follows:

Authority: 49 U.S.C. 41724.

§ 251.1 [AMENDED]

106. In § 251.1, remove the definition for “FAA”.

PART 253—NOTICE OF TERMS OF CONTRACT OF CARRIAGE

107. The authority citation for part 253 is revised to read as follows:

Authority: 49 U.S.C. 40113, 40114, 41501, 41504, 41506, 41509, 41510, 41511, 41702, and 41711.

§ 253.1 [AMENDED]

108. In § 253.1, remove the words “of this rule” and add in their place “of this part”.

§ 253.2 [AMENDED]

109. In § 253.2, remove the words “This rule” and add in their place “This part”.

§ 253.7 [AMENDED]

110. In § 253.7, remove the reference “§ 399.87” and add in its place the reference “§ 399.88”.

PART 257—DISCLOSURE OF CODE-SHARING ARRANGEMENTS AND LONG-TERM WET LEASES

111. The authority citation for part 257 continues to read as follows:

Authority: 49 U.S.C. 40113(a) and 41712.

§ 257.3 [AMENDED]

112. Amend § 257.3 as follows:

a. Revise the definition of “Designator code”.

b. Redesignate paragraph (g) as an undesignated paragraph.

c. In the definition of “Ticket agent”, remove “49 U.S.C. 40102(40)” and add in its place “49 U.S.C. 40102(45)”.

The revision reads as follows:

§ 257.3 Definitions.

* * * * *

Designator code means the airline designations originally allotted, administered, and prescribed by the Department of Transportation (DOT), by operation of law, pursuant to 49 U.S.C. Subtitle VII or its predecessor's statutory provisions still in effect by law.

* * * * *

PART 258—DISCLOSURE OF CHANGE-OF-GAUGE SERVICES

113. The authority citation for part 258 continues to read as follows:

Authority: 49 U.S.C. 40113(a) and 41712.

§ 258.3 [AMENDED]

114. In § 258.3(d), remove the reference “40102(40)” and add in its place the reference “40102(a)(45)”.

PART 259—ENHANCED PROTECTIONS FOR AIRLINE PASSENGERS

115. The authority citation for part 259 continues to read as follows:

Authority: 49 U.S.C. 40101(a)(4), 40101(a)(9), 40113(a), 41702, and 41712.

§ 259.4 [AMENDED]

116. In § 259.4(d) and (f), remove “this rule” and add in its place “this section”.

PART 271—GUIDELINES FOR SUBSIDIZING AIR CARRIERS PROVIDING ESSENTIAL AIR TRANSPORTATION

117. The authority citation for part 271 continues to read as follows:

Authority: 49 U.S.C. Chapters 401, 417.

118. In § 271.2, the definition for “Eligible place” is revised to read as follows:

§ 271.2 Definitions.

* * * * *

Eligible place means a place in the United States that meets the specified criteria outlined in 49 U.S.C. Chapter 417.

* * * * *

PART 272—[REMOVED AND RESERVED]

119. Part 272 is removed and reserved.

PART 291—CARGO OPERATIONS IN INTERSTATE AIR TRANSPORTATION

120. The authority citation for part 291 is revised to read as follows:

Authority: 49 U.S.C. 329, 41103, 41708, and 41709.

121. Throughout part 291, remove the words “of the Statute” and add in their place “of 49 U.S.C. Subtitle VII”.

§ 291.45 [AMENDED]

122. In § 291.45, remove the appendix to the section.

123. Add appendix A to subpart E to read as follows:

Appendix A to Subpart E of Part 291—Instructions to U.S. Air Carriers for Reporting Traffic and Capacity Data on Schedule T-100

(a) Format of reports—(1) Automatic Data Processing (ADP) magnetic tape. Refer to paragraph (d) of this appendix for instructions pertaining to mainframe and minicomputer reporting. The Department will issue “Accounting and Reporting Directives” to make necessary technical changes to these T-100 instructions. Technical changes which are minor in nature do not require public notice and comment.

(2) Microcomputer diskette—(i) Optional specification. If an air carrier desires to use its personal computers (PC's), rather than mainframe or minicomputers to prepare its data submissions, the following specifications for filing data on diskette media apply.

(ii) Reporting medium. Microcomputer ADP data submission of T-100 information must be on IBM compatible disks. Carriers wishing to use a different ADP procedure must obtain written approval to do so from the BTS Assistant Director—Airline Information. Requests for approval to use alternate methods must disclose and describe the proposed data transmission methodology. Refer to paragraph (i) of this appendix for microcomputer record layouts.

(iii) Microcomputer file characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, each record must contain the exact number of data elements, all of which must be juxtapositionally correct. Personal computer software including most spreadsheets, data base management programs, and BASIC are capable of producing files in this format.

(b) Filing date for reports. The reports must be received at BTS within 30 days following the end of each reporting period.

(c) Address for filing. Data Administration Division, RTS-42, Office of Airline Information, Bureau of Transportation Statistics, U.S. Department of Transportation, 1200 New Jersey Avenue SE, Washington, DC 20590-0001.

(d) ADP format for magnetic tape—(1) Magnetic tape specifications. IBM compatible 9-track EBCDIC recording. Recording density of 6250 or 1600 bpi. The order of recorded information is:

(i) Volume label.

(ii) Header label.

(iii) Data records.

(iv) Trailer label.

(2) [Reserved]

(e) External tape label information. (1) Carrier name.

(2) Report date.

(3) File identification.

(4) Carrier address for return of tape reel.

(f) Standards. It is the policy of the Department to be consistent with the American National Standards Institute and the Federal Standards Activity in all data processing and telecommunications matters. It is our intention that all specifications in this application are in compliance with standards promulgated by these organizations.

(g) Volume, header, and trailer label formats—(1) Use standard IBM label formats. The file identifier field of the header labels should be “T-100.SYSTEM”.

(h) Magnetic tape record layouts for T-100—(1) Nonstop segment record layout.

Field No. | Positions | Mode | Description
1 | 1 | 1T | Record type code (S = nonstop segment).
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-23 | 4T | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237) (in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).
T = Text.
N = Numeric.

(2) On-flight market record layout.

Field No. | Positions | Mode | Description
1 | 1 | 1T | Record type: M = on-flight market record.
2 | 2-6 | 5T | Carrier entity code.
3 | 7-12 | 4T | Report date (YYYYMM).
4 | 13-15 | 3T | Origin airport code.
5 | 16-18 | 3T | Destination airport code.
6 | 19 | 1T | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).
T = Text.
N = numeric.

(i) Record layouts for microcomputer diskettes. The record layouts for diskette are generally identical to those shown for magnetic tape, with the exception that delimiters (quotation marks, tabs and commas) are used to separate fields. It is necessary that the order of fields be maintained in all records.

(1) File characteristics. The files will be created in ASCII delimited format, sometimes called Data Interchange Format (DIF). This form of recording data provides for variable length fields (data elements) which, in the case of alphabetic data, are enclosed by quotation marks (”) and separated by a comma (,) or tab. Numeric data elements that are recorded without editing symbols are also separated by a comma (,) or tab. The data are identified by their juxtaposition within a given record. Therefore, it is critical that each record contain the exact number of data elements, all of which must be juxtapositionally correct. PC software including most spreadsheets, data base management programs, and BASIC produce minidisk files in this format.

(2) File naming conventions for diskettes. For microcomputer reports, each record type should be contained in a separate DOS file on the same physical diskette. The following DOS naming conventions should be followed:

(i) Record type S = SEGMENT.DAT

(ii) Record type M = MARKET.DAT

§ 291.60 [AMENDED]

124. In § 291.60(b)(2), remove the words “Title IV of the Federal Aviation Act of 1958, as amended” and add in their place the words “49 U.S.C. Subtitle VII (Transportation)”.

PART 294—CANADIAN CHARTER AIR TAXI OPERATORS

125. The authority citation for part 294 continues to read as follows:

Authority: 49 U.S.C. Chapters 401, 417.

126. Throughout part 294:

a. Remove the words “Special Authorities Division” and add in their place the words “U.S. Air Carrier Licensing/Special Authorities Division”.

b. Remove the words “of the Statute” and add in their place “of 49 U.S.C. Subtitle VII”.

c. Remove the words “of the Federal Aviation Regulations” and add in their place “of this title (the Federal Aviation Regulations)”.

d. Add the words “in 14 CFR chapter I” immediately following the words “FAA regulations”.

§ 294.10 [AMENDED]

127. In § 294.10, add a period at the end of paragraph (d).

§ 294.30 [AMENDED]

128. In § 294.30(c), remove the words “exemption under section 41701” and add in their place the words “exemption under 49 U.S.C. 40109”.

PART 296—INDIRECT AIR TRANSPORTATION OF PROPERTY

129. The authority citation for part 296 continues to read as follows

Authority: 49 U.S.C. Chapters 401, 417.

130. Throughout part 296, remove the words “of the Statute” and add in their place “of 49 U.S.C. Subtitle VII”.

§ 296.3 [AMENDED]

131. In § 296.3, remove the words “the Civil Aeronautics Board” and add in their place the words “its predecessor to the extent that those actions, by law, are still in effect”.

PART 297—FOREIGN AIR FREIGHT FORWARDERS AND FOREIGN COOPERATIVE SHIPPERS ASSOCIATIONS

132. The authority citation for part 297 continues to read as follows:

Authority: 49 U.S.C. Chapters 401, 417.

133. Throughout part 297:

a. Remove the words “Aviation Analysis” and add in their place the words “International Aviation”.

b. Remove the words “Special Authorities Division” and add in their place the words “U.S. Air Carrier Licensing/Special Authorities Division”.

c. Remove the words “of the Statute” and add in their place “of 49 U.S.C. Subtitle VII”.

§ 297.3 [AMENDED]

134. In § 297.3(b), remove the words “bona fide asociation” and add in their place the words “bona fide association”.

PART 298—EXEMPTIONS FOR AIR TAXI AND COMMUTER AIR CARRIER OPERATIONS

135. The authority citation for part 298 continues to read as follows:

Authority: 49 U.S.C. 329 and chapters 401, 411, and 417.

136. Throughout part 298, remove the words “of the Statute” and add in their place the words “of 49 U.S.C. Subtitle VII”.

137. Amend § 298.2 as follows:

a. The definition for “Eligible place” is revised.

b. In the definitions for “Maximum payload capacity” and “Nonrevenue passenger”, add the words “in 14 CFR chapter I” immediately following the words “FAA regulations”.

c. Remove the definition for “Statute”.

The revision reads as follows:

§ 298.2 Definitions.

* * * * *

Eligible place means a place in the United States that meets the specified criteria outlined in 49 U.S.C. Chapter 417.

* * * * *

§ 298.21 [AMENDED]

138. Amend § 298.21 as follows:

a. In paragraph (a), remove the words “Program Management Branch” and add in their place the words “Technical Programs Branch”.

b. In footnote 6 to paragraph (c)(1), remove the words “Program Management Branch, Federal Aviation Administration, AFS-260, or on the World Wide Web at http://www.faa.gov/avr/afs/afs200/afs260/Part298.cfm” and add in their place the words “Technical Programs Branch, Federal Aviation Administration, AFS-260 at (202) 267-8166, or on the internet at https://www.faa.gov/about/office_org/headquarters_offices/avs/offices/afx/afs/afs200/afs260/exemptions/”.

c. In paragraph (d), in the first sentence, remove the words “Program Management Branch (AFS-260), 800 Independence Avenue SW, Washington, DC 20591” and add in their place the words “Technical Programs Branch (AFS-260), 800 Independence Avenue SW, Room 831, Washington, DC 20591”.

§ 298.23 [AMENDED]

139. Amend § 298.23(b) as follows:

a. Remove the words “Program Management Branch (AFS-260), 800 Independence Avenue SW, Washington, DC 20591” and add in their place the words “Technical Programs Branch (AFS-260), 800 Independence Avenue SW, Room 831, Washington, DC 20591”.

b. Remove the words “Alaskan Region Headquarters (AAL-230), 222 West 7th Avenue, Box 14, Anchorage, Alaska 99513” and add in their place the words “Alaskan Region Headquarters Technical Standards Branch, (AAL-231), 222 West 7th Avenue, Box 14, Anchorage, Alaska 99513”.

140. Amend § 298.50 as follows:

a. Revise paragraph (a)(3).

b. In paragraph (b), remove the words “Department of Transportation Dockets,” and add in their place the words “Docket Operations Office, U.S. Department of Transportation,”.

The revision reads as follows:

§ 298.50 Application.

(a) * * *

(3) A $670 filing fee submitted in accordance with the provisions of § 389.21 of this chapter.

* * * * *

141. In § 298.60, revise paragraph (a) to read as follows:

§ 298.60 General reporting instruction.

(a) Each commuter air carrier and each small certificated air carrier shall file with the Department's Bureau of Transportation Statistics (BTS) the applicable schedules of BTS Form 298-C, “A Report of Financial and Operating Statistics for Small Aircraft Operators”, and Schedule T-100, “U.S. Air Carrier Traffic and Capacity Data by Nonstop Segment and On-Flight Market”, as required by this section.

* * * * *

§ 298.61 [AMENDED]

142. Amend § 298.61 as follows:

a. In paragraph (a), remove the words “AU.S. Air Carrier Traffic and Capacity Data by Nonstop Segment and On-Flight Market.” ” and add in their place the words “U.S. Air Carrier Traffic and Capacity Data by Nonstop Segment and On-Flight Market.”

b. In paragraph (b), remove the reference ““298.60” and add in its place “§ 298.60”.

c. In paragraph (e)(2), remove the organizational code “K-14” and add in its place “RTS-42”.

§ 298.70 [AMENDED]

143. In § 298.70(d)(2), remove the words “Title IV of the Federal Aviation Act of 1958, as amended” and add in their place the words “49 U.S.C. Subtitle VII (Transportation)”.

PART 300—RULES OF CONDUCT IN DOT PROCEEDINGS UNDER THIS CHAPTER

144. The authority citation for part 300 continues to read as follows:

Authority: 49 U.S.C. subtitle I and chapters 401, 411, 413, 415, 417, 419, 421, 449, 461, 463, and 465.

§ 300.0a [REMOVED]

145. Remove § 300.0a.

§ 300.2 [AMENDED]

146. In § 300.2(c)(5), remove the words “this rule” and add in their place the words “this section”.

§ 300.3 [AMENDED]

147. Amend § 300.3 as follows:

a. In paragraph (b)(1), remove “(DMS)” and add in its place “(http://www.regulations.gov)” and remove the words “and Media Management.”

b. In paragraph (b)(3), remove “http://dms.dot.gov” and add in its place “www.regulations.gov”.

c. In paragraph (c)(1), remove the words “and Media Management.”

148. Amend § 300.4 as follows:

a. In paragraph (c), remove the reference “paragraph (a)” and in its place add the reference “paragraph (b) of this section”.

b. Revise paragraph (d).

The revision reads as follows:

§ 300.4 Separation of functions in hearing cases.

* * * * *

(d) In enforcement cases, the Office of the Assistant General Counsel for Aviation Enforcement and Proceedings, under the supervision of the career Deputy General Counsel and the General Counsel, will conduct all enforcement proceedings and related investigative functions, while the non-career Deputy General Counsel will advise the DOT decisionmaker in the course of the decisional process. The Office of the Assistant General Counsel for Aviation Enforcement and Proceedings will report to the career Deputy General Counsel and the General Counsel. To ensure the independence of these functions, this Office and the General Counsel, for the purpose of this section, shall be considered an “office” as that term is used in paragraph (b) of this section, separate from the non-career Deputy General Counsel and the rest of the Office of the General Counsel.

§§ 300.8, 300.9, 300.10, 300.10a, 300.11, 300.12, 300.13, and 300.14 [REMOVED]

149. Remove §§ 300.8, 300.9, 300.10, 300.10a, 300.11, 300.12, 300.13, and 300.14.

§ 300.15 [REDESIGNATED AS § 300.8 AND AMENDED]

150. Redesignate § 300.15 as § 300.8 and amend newly redesignated § 300.8 by removing paragraph (b) and redesignating paragraph (a) as an undesignated paragraph.

§ 300.16 [REMOVED]

151. Remove § 300.16.

§§ 300.17 through 300.20 [REDESIGNATED AS §§ 300.9 through 300.12]

152. Redesignate §§ 300.17 through 300.20 as §§ 300.9 through 300.12, respectively.

PART 302—RULES OF PRACTICE IN PROCEEDINGS

153. The authority citation for part 302 is revised to read as follows:

Authority: 39 U.S.C. 5402; 42 U.S.C. 4321, 49 U.S.C. Subtitle I and Chapters 401, 411, 413, 415, 417, 419, 461, 463, and 471.

154. Throughout part 302, remove the words “of the Statute” and add in their place the words “of 49 U.S.C. Subtitle VII”.

§ 302.2 [Amended]

155. In § 302.2, remove the definition for “Statute”.

§ 302.3 [AMENDED]

156. Amend § 302.3 as follows:

a. In paragraph (a)(1), remove the words “the DOT Dockets Management System (DMS) internet website” and add in their place “http://www.regulations.gov”.

b. In paragraph (c), remove the words “the specified DOT DMS internet website” and add in their place “http://www.regulations.gov”.

c. In paragraph (d)(1)(ii), remove the words “the DOT DMS internet website” and add in their place “http://www.regulations.gov”.

§ 302.4 [AMENDED]

157. In § 302.4, remove the words “the DOT DMS internet website” each place they appear and add in their place “http://www.regulations.gov”.

§ 302.7 [AMENDED]

158. In § 302.7, remove “§ 302.4(a)(2)(iv)” each place it appears and add in its place “§ 302.4(a)(2)(i)(D)”.

159. In § 302.24, paragraphs (g)(1)(iii) through (vi), (viii), (xii), and (xiv) through (xx) and (g)(2) and (3) are revised to read as follows:

§ 302.24 Evidence.

* * * * *

(g) * * *

(1) * * *

(iii) Reports of Traffic and Financial Data of all U.S. Air Carriers issued by the Department or by its predecessor.

(iv) Airline Traffic Surveys and Passenger Origin-Destination Surveys, Domestic or International, compiled by the Department or its predecessor and published and/or made available either to the public or to parties in proceedings.

(v) Compilations of data relating to competition in the airline industry and made available to the public by the Department or its predecessor.

(vi) Passenger, mail, express, and freight data submitted to the Department and its predecessor as part of ER-586 Service Segment Data by U.S. carriers, or similar data submitted to the Department by U.S. air carriers (T-100) or (T-100F) that are not confidential.

* * * * *

(viii) Service Mail Pay and Subsidy for U.S. Certificated Air Carriers published by the Department or its predecessor, including any supplemental data and subsequent issues published by the Department or its predecessor.

* * * * *

(xii) Chart Supplements, issued by the FAA.

* * * * *

(xiv) Monthly, quarterly and annual reports of the Immigration and Naturalization Service, U.S. Department of Justice.

(xv) All forms and reports required by the U.S. Postal Service to be filed by air carriers authorized to transport mail.

(xvi) All orders of the Postmaster General designating schedules for the transportation of mail.

(xvii) Publications of the Bureau of the Census of the U.S. Department of Commerce (DOC) relating, but not necessarily limited, to population, manufacturing, business, statistics, and any yearbooks, abstracts, or similar publications published by DOC.

(xviii) All Official Airline Guides, including the North American, Worldwide, All-Cargo and quick reference editions, including electronic versions.

(xix) Official Railways Guide and Russell's Official National Motor Coach Guide.

(xx) The Rand McNally Commercial Atlas and Marketing Guide, and the Rand McNally Road Atlas, United States, Canada, and Mexico.

* * * * *

(2) Any fact contained in a document belonging to a category enumerated in paragraph (g)(1) of this section shall be deemed to have been physically incorporated into and made part of the record in such proceedings. However, such taking of official notice shall be subject to the rights granted to any party or intervener to the proceeding under section 7(d) of the Administrative Procedure Act (5 U.S.C. 557(d)).

(3) The decisions of the Department and its administrative law judges may officially notice any appropriate matter without regard to whether or not such items are contained in a document belonging to the categories enumerated in paragraph (g)(1) of this section. However, where the decision rests on official notice of a material fact or facts, it will set forth such items with sufficient particularity to advise interested persons of the matters that have been noticed.

* * * * *

160. Throughout subpart D, remove the word “Deputy” wherever it appears.

§ 302.401 [AMENDED]

161. In § 302.401, remove the words “Subtitle VII of”.

162. In § 302.603, paragraph (b) is revised to read as follows:

§ 302.603 Contents of complaint or request for determination.

* * * * *

(b) All exhibits and briefs prepared on electronic spreadsheet or word processing programs should be accompanied by standard-format electronic media containing those submissions. Parties should submit three copies the electronic media to Department of Transportation Dockets Operations Office: One copy for the docket, one copy for the Office of Hearings, and one copy for the Office of Aviation Analysis. Filers should ensure that files on the electronic media are unalterably locked.

* * * * *

PART 303— REVIEW OF AIR CARRIER AGREEMENTS

163. The authority citation for part 303 continues to read as follows:

Authority: 49 U.S.C. chapters 401, 413, 417.

164. Section 303.01 is revised to read as follows:

§ 303.01 Purpose.

This part sets forth the procedures by which applications may be made to the Department of Transportation under 49 U.S.C. 41308 and 41309 and procedures governing proceedings to enforce these provisions. These procedures supplement the rules described in part 302 of this chapter, which also apply to the review of air carrier agreements.

165. Section 303.02 is revised to read as follows:

§ 303.02 Definitions.

(a) The term Assistant Secretary means the Assistant Secretary for Aviation and International Affairs, or as delegated. As provided in 49 CFR 1.21, the Secretary or Deputy Secretary may exercise any authority in lieu of the Assistant Secretary under the provisions of this part.

(b) The term documents means:

(1) All written, recorded, transcribed or graphic matter including letters, telegrams, memoranda, reports, studies, forecasts, lists, directives, tabulations, logs, or minutes and records of meetings, conferences, telephone or other conversations or communications; and

(2) All information contained in data processing equipment or materials. The term does not include daily or weekly statistical reports in whose place an annual or monthly summary is submitted.

(c) The term hearing means either a show-cause proceeding as provided in § 303.44 or a full evidentiary hearing as provided in § 303.45, whichever is determined by the Assistant Secretary to be appropriate.

(d)-(g) [Reserved]

(h) The term Section 41309 transaction means any contract, agreement or discussion of a cooperative working arrangement within the scope of 49 U.S.C. 41309.

(i) [Reserved]

166. Section 303.03 is revised to read as follows:

§ 303.03 Requirement to file application.

A person who seeks approval of a section 41309 transaction must file the application with the Docket Operations Office, M-30, U.S. Department of Transportation, 1200 New Jersey Avenue SE, Washington, DC 20590, or by electronic submission at http://www.regulations.gov. The application must conform to the requirements set forth in §§ 303.04 and 303.05.

167. Amend § 303.04 as follows:

a. In paragraph (a), remove the words “these regulations” and add in their place the words “this part”.

b. Revise paragraph (i).

The revision reads as follows:

§ 303.04 General rules governing application content, procedure and conditions of approval.

* * * * *

(i) The person submitting the application to the Department shall send a complete copy of the application to the Chief, Transportation Section, Antitrust Division of the Department of Justice, at the same time as it is filed with the Docket Operations Office.

* * * * *

168. Section 303.05(a) is revised to read as follows:

§ 303.05 Applications requesting antitrust immunity.

(a) Each application must state explicitly whether or not the applicant seeks antitrust immunity under the provisions of 49 U.S.C. 41308. If antitrust immunity is requested, the application should specify whether the applicant seeks full immunity or immunity only from the provisions of sections 4, 4a and 4c of the Clayton Act, 15 U.S.C. 15, 15a, 15c. Each application seeking antitrust immunity shall contain a statement explaining why the applicant believes immunity is in the public interest and necessary in order for the transaction to proceed.

* * * * *

169. Section 303.06 is revised to read as follows:

§ 303.06 Review of antitrust immunity.

The Assistant Secretary may initiate a proceeding to review any antitrust immunity previously conferred by the Department's predecessor or the Department in any section 41309 transaction. The Assistant Secretary may terminate or modify such immunity if the Assistant Secretary finds after notice and hearing that the previously conferred immunity is not consistent with the provisions of section 41308. In any proceeding to review such immunity, the proponents of the immunity shall have the burden of justifying the continuation of previously conferred immunity under the provisions of section 41308.

170. Section 303.07 is revised to read as follows:

§ 303.07 Transitional rule.

If a section 41309 application or a request for antitrust immunity under section 41308 is pending on May 16, 2019, such application or request shall be deemed made pursuant to the provisions of this part as amended May 16, 2019.

171. The heading of subpart D is revised to read as follows:

Subpart D—Section 41309 Applications

172. In § 303.30, the introductory text and paragraph (c) are revised to read as follows:

§ 303.30 General provisions concerning contents of applications.

A section 41309 application shall contain the following general information:

* * * * *

(c) If the contract, agreement or request for authority to discuss a cooperative working arrangement is evidenced by a resolution or other action of an air carrier association, the application shall contain the resolution or other action and a certification by an authorized employee of the association that the resolution or other action was duly adopted on a certain date. The authorized employee shall also specify in such certification the name of each air carrier that concurred in such resolution or other action and the name of each air carrier member that did not concur.

173. Section 303.31 is revised to read as follows:

§ 303.31 Justification for the application.

A section 41309 application shall explain the nature and purpose of the contract, agreement or request to discuss a cooperative working arrangement and describe how it changes any price, rule, or practice existing under a previously approved application. The application also, consistent with Department of Transportation and the precedent of DOT's predecessor, shall contain factual material, documentation, and argument in support of the application. Economic analyses, when required, shall include full explanatory details, including data sources and allocation methods. If the applicants intend to rely upon market data sources, other than those available to the public by the Department, the complete market data shall be included with the application at the time of filing. If the applicants intend to rely on public benefits to justify approval, they shall describe these benefits, including foreign policy and comity considerations.

§ 303.32 [AMENDED]

174. In § 303.32(a), remove “412 application” and add in its place “41309 application”.

175. In § 303.42, paragraph (a) is revised to read as follow:

§ 303.42 Comments on application.

(a) Unless a different comment period is specified by notice or order, or in a notice of filing published in the Federal Register, any person may file comments, responses to the application, and/or a request for a hearing, within 21 days of the filing of an application.

* * * * *

§ 303.43 [AMENDED]

176. In § 303.43(b), remove “412 application” each place it appears and add in its place “41309 application”.

§ 303.45 [AMENDED]

177. In § 303.45(c), remove the words “these regulations” and add in their place “this part”.

PART 305—RULES OF PRACTICE IN INFORMAL NONPUBLIC INVESTIGATIONS

178. The authority citation for part 305 continues to read as follows:

Authority: 49 U.S.C. chapters 401, 417, 461; 5 U.S.C. 555, 556.

179. Throughout part 305, remove the word “Deputy” wherever it appears.

§ 305.1 [AMENDED]

180. In § 305.1, remove “Title IV or sections 101(3), 1002, 1003, or 1108(b) of the Act” and add in its place “49 U.S.C. Subtitle VII, Chapter 411 or 49 U.S.C. 40102(2), 41502, 41507, 41508, 41509, 41702, 41703, or 46101”.

181. Section 305.7(b) is revised to read as follows:

§ 305.7 Issuance of investigation subpenas.

* * * * *

(b) Witnesses subpoenaed to appear shall be paid the fees and mileage prescribed in § 302.27(c) of the Rules of Practice (14 CFR 302.27(c)). Service of such subpoenas shall be made in accordance with the provisions of § 302.7 of the Rules of Practice (14 CFR 302.7).

§ 305.10 [AMENDED]

182. In § 305.10, add the words “of this chapter” immediately following “302.12”

§ 305.11 [AMENDED]

183. Amend § 305.11 as follows:

a. Remove the words “, and any documentary evidence obtained in the investigation will be returned to the persons who produced it”.

b. Remove the words “of the Rules of Practice” and add in their place the words “of this chapter (the Rules of Practice)”.

PART 313—IMPLEMENTATION OF THE ENERGY POLICY AND CONSERVATION ACT

184. The authority citation for part 313 continues to read as follows:

Authority: 42 U.S.C. 6362(b), 49 U.S.C. Chapter 401.

185. Throughout part 313, remove the words “of the Statute” and add in their place the words “of 49 U.S.C. Subtitle VII”.

§ 313.3 [AMENDED]

186. Remove § 313.3(e).

PART 323—TERMINATIONS, SUSPENSIONS, AND REDUCTIONS OF SERVICE

187. The authority citation for part 323 continues to read as follows:

Authority: 49 U.S.C. Chapters 401, 411, 417.

188. Throughout part 323, remove the words “of the Statute” and add in their place the words “of 49 U.S.C. Subtitle VII”.

§ 323.2 [AMENDED]

189. In § 323.2, the definitions for “Certificated carrier” and “Eligible place” are revised and the definitions for “FAA” and “Statute” are removed to read as follows:

§ 323.2 Definitions.

* * * * *

Certificated carrier means a direct air carrier holding authority to provide air transportation granted by the Department in the form of a certificate of public convenience and necessity under 49 U.S.C. 41102 (Transportation) or an all-cargo air transportation certificate to perform all-cargo air transportation under 49 U.S.C. 41103.

Eligible place means a place in the United States that meets the specified criteria outlined in 49 U.S.C. Chapter 417.

* * * * *

PART 325—ESSENTIAL AIR SERVICE PROCEDURES

190. The authority citation for part 325 continues to read as follows:

Authority: 49 U.S.C. Chapters 401, 417.

191. Throughout part 325, remove the words “point” and “points” and add in their place “place” and “places”, respectively.

§ 325.1 [AMENDED]

192. In § 325.1, remove the words “under section 419 of the Act” and add in their place “under 49 U.S.C. 41732”.

193. Section 325.2 is revised to read as follows:

§ 325.2 Applicability.

This part applies to essential air service determinations for communities designated as eligible under 49 U.S.C. 41731 and to eligible place designations and essential air service determinations for communities that qualify under 49 U.S.C. 41732 and 41733. It applies to the gathering of data by the Department, and to the participation of State, local, and other officials and other interested persons in the designation and determination processes.

Note to § 325.2: Criteria for designating eligible points under section 419(b) are contained in part 270 of this chapter. Guidelines for deciding essential air service levels are contained in part 398 of this chapter.

194. Section 352.3 is revised to read as follows:

§ 325.3 Definitions.

As used in this part, eligible place means a place in the United States that meets the specified criteria outlined in 49 U.S.C. Chapter 417.

§ 325.4 [AMENDED]

195. Amend § 325.4 as follows:

a. In paragraph (a) introductory text, remove the words “section 419(b) of the Act” and add in their place the words “49 U.S.C. 41731”.

b. In paragraph (a)(1), remove the words “section 401 certificate” each place it appears and add in their place the words “section 41102 certificate”.

c. In paragraph (b):

i. Remove the words “Documentary Services Division” and add in their place the words “Docket Operations Office”.

ii. Remove the words “section 419(f) of the Act” and add in their place “49 U.S.C. 41737”.

d. In paragraph (c), remove the words “Documentary Services Division” and add in their place the words “Docket Operations Office”.

196. Section 325.5 is revised to read as follows:

§ 325.5 Determinations and designations.

DOT will issue a determination of the essential level of air service for a place within 6 months after each of the following events:

(a) A notice is received that service to an eligible place will be reduced to only one carrier that holds a section 41102 certificate;

(b) A place is designated as an eligible place under 49 U.S.C. 41731 and either paragraph (c) or (d) of this section or § 325.7(e); or

(c) A review was conducted of essential air service of that place under § 325.6.

§ 325.6 [AMENDED]

197. In § 325.6(c), remove the words “under section 419(b) of a community as an eligible place to determine whether that place continues” and add in their place the words “under 49 U.S.C. 41733 to determine whether the community designated as an eligible place continues”.

PART 330 [REMOVED AND RESERVED]

198. Part 330 is removed and reserved.

PART 372—OVERSEAS MILITARY PERSONNEL CHARTERS

199. The authority citation for part 372 continues to read as follows:

Authority: 49 U.S.C. Chapters 401, 411, 413, 417.

200. Throughout part 372, remove the words “of the Statute” and add in their place the words “of 49 U.S.C. Subtitle VII”.

§ 372.2 [AMENDED]

201. In § 372.2, remove the definition of “Statute”.

§ 372.3 [AMENDED]

202. In § 372.3, remove “this regulation” and add in its place “this part”.

§ 372.30 [AMENDED]

203. Amend § 372.30 as follows:

a. In paragraph (a) introductory text, remove the words “Office of Aviation Analysis” and add in their place the words “Office of International Aviation”.

b. In paragraph (a)(9), remove the word “applicant” and add in its place the word “applicants”.

204. Revise appendix A to part 372 to read as follows:

Appendix A to Part 372—Overseas Military Personnel Charter Operator's Surety Bond Under Part 372 of the Regulations of the Department of Transportation (14 CFR Part 372)

Know all persons by these presents, that we ___ (name of charter operator) of ___ (address) as Principal (hereinafter called “Principal”), and ___ (name of surety) a corporation created and existing under the laws of the State of ___ (State) as Surety (hereinafter called “Surety”) are held and firmly bound unto the United States of America in the sum of ___ (see § 372.24(a), 14 CFR part 372) for which payment, well and truly to be made, we bind ourselves and our heirs, executors, administrators, successors, and assigns, jointly and severally firmly by these presents.

Whereas Principal is an overseas military personnel charter operator pursuant to the provisions of part 372 of the Department's regulations and other rules and regulations of the Department relating to security for the protection of charter participants, and has elected to file with the Department of Transportation such a bond as will insure financial responsibility with respect to all monies received from charter participants for services in connection with overseas military personnel charters to be operated subject to part 372 of the Department's Special Regulations in accordance with contracts, agreements, or arrangements therefor, and

Whereas this bond is written to assure compliance by Principal as an authorized charter operator with part 372 of the Department's regulations, and other rules and regulations of the Department relating to security for the protection of charter participants, and shall inure to the benefit of any and all charter participants to whom Principal may be held legally liable for any damages herein described.

Now, therefore, the condition of this obligation is such that if Principal shall pay or cause to be paid to charter participants any sum or sums for which Principal may be held legally liable by reason of Principal's failure faithfully to perform, fulfill and carry out all contracts, agreements, and arrangements made by Principal while this bond is in effect with respect to the receipt of moneys from charter participants, and proper disbursement thereof pursuant to and in accordance with the provisions of part 372 of the Department's regulations, then this obligation shall be void, otherwise to remain in full force and effect.

The liability of Surety with respect to any charter participant shall not exceed the charter price paid by or on behalf of such participant.

The liability of Surety shall not be discharged by any payment or succession of payments hereunder, unless and until such payment or payments shall amount in the aggregate to the penalty (face amount) of the bond, but in no event shall Surety's obligation hereunder exceed the amount of said penalty.

Surety agrees to furnish written notice to the Office of International Aviation, Department of Transportation, forthwith of all suits or claims made and judgments rendered, and payments made by Surety under this bond.

This bond shall cover the following Charters: ¹

¹ These data may be supplied in an addendum attached to the bond.

Surety company's bond No.

Date of flight departure

Place of flight departure

This bond is effective on the ___ of ___, 20___, 12:01 a.m., standard time at the address of Principal as stated herein and as hereinafter provided. Principal or Surety may at any time terminate this bond by written notice to: U.S. Air Carrier Licensing/Special Authorities Division, Office of International Aviation, U.S. Department of Transportation, 1200 New Jersey Avenue SE, Washington, DC 20590, such termination to become effective thirty (30) days after the actual receipt of said notice by the Department. Surety shall not be liable hereunder for the payment of any damages hereinbefore described which arise as a result of any contracts, agreements, undertakings, or arrangements for the supplying of transportation and other services made by Principal after the termination of this bond as herein provided, but such termination shall not affect the liability of the bond hereunder for the payment of any damages arising as a result of contracts, agreements, or arrangements for the supplying of transportation and other services made by Principal prior to the date that such termination becomes effective. Liability of Surety under this bond shall in all events be limited only to a charter participant or charter participants who shall within sixty (60) days after the termination of the particular charter described herein give written notice of claim to the charter operator or, if it is unavailable, to Surety, and all liability on this bond shall automatically terminate sixty (60) days after the termination date of each particular charter covered by this bond except for claims made in the time provided herein.

In witness whereof, the said Principal and Surety have executed this instrument on the ___ day of ___, ___.

PRINCIPAL

Name

By: Signature and title

Witness

SURETY

Name

By: Signature and title

Witness

Only corporations may qualify to act as surety and they must meet the requirements set forth in § 372.24(c) of part 372.

PART 374—IMPLEMENTATION OF THE CONSUMER CREDIT PROTECTION ACT WITH RESPECT TO AIR CARRIERS AND FOREIGN AIR CARRIERS

205. The authority citation for part 374 is revised to read as follows:

Authority: 15 U.S.C. 1601-1693r; 49 U.S.C., Subtitle VII; and 12 CFR parts 1002 and 1026.

§ 374.3 [AMENDED]

206. Amend § 374.3(b) as follows:

a. Remove “12 CFR part 202” and add in its place “12 CFR part 1002”.

b. Remove “12 CFR part 226” and add in its place “12 CFR part 1026”.

PART 374a—EXTENSION OF CREDIT BY AIRLINES TO FEDERAL POLITICAL CANDIDATES

207. The authority citation for part 374a continues to read as follows:

Authority: 49 U.S.C. chapters 401, 411, 415, 417.

208. Section 374a.1 is revised to read as follows:

§ 374a.1 Purpose.

The purpose of this part is to issue rules pursuant to the Federal Election Campaign Act of 1971, as amended, in accordance with the Department's responsibility thereunder.

§ 374a.2 [AMENDED]

209. In § 374a.2, remove “This regulation” and add in its place “this part”.

§ 374a.3 [AMENDED]

210. In § 374a.3, in the definition of “Air carrier”, remove the words “section 401 of the Federal Aviation Act of 1958, as amended” and add in their place the words “49 U.S.C. 41102”.

211. Section 374a.5 is revised to read as follows:

§ 374a.5 Exemption authority.

Air carriers are exempt from the following provisions of 49 U.S.C. Subtitle VII:

(a) Section 41510.

(b) Section 41310, and any and all other provisions of 49 U.S.C. Subtitle VII, to the extent necessary to enable air carriers to comply with the provisions of this part.

PART 375—NAVIGATION OF FOREIGN CIVIL AIRCRAFT WITHIN THE UNITED STATES

212. The authority citation for part 375 continues to read as follows:

Authority: 49 U.S.C. 40102, 40103, and 41703.

§ 375.1 [AMENDED]

213. Amend § 375.1 as follows:

a. Remove the definition for “Act”.

b. In the definition for “Air transportation”, remove the words “(see section 101 (10) and (23) of the Federal Aviation Act, 49 U.S.C. 1301)” and add in their place “(see 49 U.S.C. 40102 (a)(5) and (a)(24))”.

c. In the definition for “Exemption”, remove the words “under section 416(b) of the Act” and add in their place “under 49 U.S.C. 40109”.

d. In the definition for “Foreign air carrier permit”, remove the words “section 402 of the Act” and add in their place “49 U.S.C. 41301”.

e. In the definition for “Foreign aircraft permit”, remove the words “section 1108(b) of the Act” and add in their place the words “49 U.S.C. 41703”.

§ 375.19 [AMENDED]

214. In § 375.19, remove the words “section 1108(b) of the Act” each place it appears and add in their place “49 U.S.C. 41703”.

§ 375.22 [AMENDED]

215. In § 375.22, add “in 14 CFR chapter I” immediately following “Federal Aviation Administration”.

§ 375.33 [AMENDED]

216. In § 375.33, remove the word “safey” and add in its place the word “safety”.

§ 375.35 [AMENDED]

217. In § 375.35(a)(2), remove the words “section 402 permit” and add in their place the words “section 41301 permit”.

218. Amend § 375.43 as follows:

a. Revise paragraph (a).

b. In paragraph (e)(1), remove the words “Aviation Operations” and add in their place the words “International Aviation”.

The revision reads as follows:

§ 375.43 Application for foreign aircraft permit.

(a) Applications for foreign aircraft permits shall be submitted on OST Form 4509 (see appendix A to this part), in duplicate, addressed to the Chief, Foreign Air Carrier Licensing Division, X-45, Office of International Aviation. Applications should be submitted by email; see “Application Procedures under Part 375” at www.transportation.gov/policy/aviation-policy/licensing/foreign-carriers.

* * * * *

§ 375.50 [AMENDED]

219. Amend § 375.50 as follows:

a. In paragraph (b), remove the words “Chief, Discrete Operations Branch, Licensing Division, P-45, Office of Aviation Operations” and add in their place the words “Chief, Foreign Air Carrier Licensing Division, X-45, Office of International Aviation”.

b. In paragraph (e), remove the words “section 1108(b) of the Act” and add in their place “49 U.S.C. 41703”.

c. In paragraph (h):

i. Remove the words “Federal Aviation Act” and add in their place “49 U.S.C. Subtitle VII”.

ii. Remove the words “section 402 or 416(b) of the Act” and add in their place “49 U.S.C. 41301 or 41709”.

220. Section 375.60 is revised to read as follows:

§ 375.60 Penalties.

The operation of a foreign aircraft within the United States or over adjacent territorial waters in violation of the provisions of this part constitutes a violation of 49 U.S.C. Subtitle VII and of this chapter, and may, in addition, constitute a violation of the rules of the Federal Aviation Administration. Such operation makes the person or persons responsible for the violation or violations subject to a civil penalty as provided in 49 U.S.C. 46301, and to the alteration, amendment, modification, suspension or revocation of any permit issued under this part and of any U.S. certificate involved as provided in 49 U.S.C. 44709. Engaging in air transportation as defined in 49 U.S.C. Subtitle VII by a foreign aircraft without a foreign air carrier permit issued pursuant to 49 U.S.C. 41301 or an exemption, or in violation of the terms of such authority constitutes not only a violation of this part but of Title 49, subtitle VII, as well, which entails a criminal penalty as set forth in 49 U.S.C. 46316.

PART 377—CONTINUANCE OF EXPIRED AUTHORIZATIONS BY OPERATION OF LAW PENDING FINAL DETERMINATION OF APPLICATIONS FOR RENEWAL THEREOF

221. The authority citation for part 377 continues to read as follows:

Authority: 49 U.S.C. Chapters 401, 461; 5 U.S.C. 558, 559.

§ 377.1 [AMENDED]

222. In § 377.1, in the definition for “Authorization”, remove the words “sections 101(3), 401, 402, 408, 409, 412 and 416 of the Federal Aviation Act of 1958, as amended” and add in their place “49 U.S.C. 40102, 41102, 41302, 41309, and 41708”.

§§ 377.2, 377.3, 377.4, 377.5, 377.10 and 377.11 [AMENDED]

223. In §§ 377.2, 377.3, 377.4, 377.5, 377.10, and 377.11, remove the word “Board” each place it appears and add in its place the word “Department”.

§§ 377.3, 377.4, and 377.10 [AMENDED]

224. In §§ 377.3, 377.4, and 377.10, remove the words “section 401 of the Act” and add in their place “49 U.S.C. 41102”.

§ 377.10 [AMENDED]

225. Amend § 377.10 as follows:

a. In paragraphs (b) and (c) introductory text, remove the word “Board's” and add in its place the word “Department's”.

b. In paragraph (c)(3), remove the words “section 402 of the Act and exemptions issued under section 416” and add in their place the words “49 U.S.C. 41301 and exemptions issued under 49 U.S.C. 41708”.

PART 380—PUBLIC CHARTERS

226. The authority citation for part 380 continues to read as follows:

Authority: 49 U.S.C. 40101, 40102, 40109, 40113, 41101, 41103, 41301, 41504, 41702, 41708, 41712, 46101.

227. Throughout part 380:

a. Remove the words “Office of Aviation Analysis” and add in their place the words “Office of International Aviation”.

b. Remove the words “Special Authorities Division” and add in their place the words “U.S. Air Carrier Licensing/Special Authorities Division”.

c. Remove the words “of the Statute” and add in their place the words “of 49 U.S.C. Subtitle VII”.

§ 380.1 [AMENDED]

228. In § 380.1, remove the words “, formerly Title IV of the Federal Aviation Act of 1958, as amended”.

§ 380.2 [AMENDED]

229. In § 380.2, remove the word “opertor” and add in its place the word “operator” and remove the definition for “Statute.”

§ 380.3 [AMENDED]

230. In § 380.3(b), remove the word “and” and add in its place the word “through”.

§ 380.14 [AMENDED]

231. In § 380.14, remove the word “Noting” and add in its place the word “Nothing”.

§ 380.15 [AMENDED]

232. In § 380.15, remove the word “Subsititues” and add in its place the word “Substitutes”.

§ 380.32 [AMENDED]

233. Amend § 380.32 as follows:

a. In paragraph (j), remove the words “That is a charter” and add in their place the words “That if a charter”.

b. In paragraph (q), remove the words “That is the operator” and add in their place the words “That if the operator”.

c. In paragraph (t), remove the words “That the participants” and add in their place the words “That the participant's”.

d. In paragraph (v), remove the words “date or arrival” and add in their place the words “date of arrival”.

§ 380.34 [AMENDED]

234. In § 380.34(b)(2)(i), remove the words “credit cared” and add in their place the words “credit card”.

235. Revise appendices A and B to part 380 to read as follows:

Appendix A to Part 380—Public Charter Operator's Surety Bond Under Part 380 of the Regulations of the Department of Transportation (14 CFR PART 380)

Know all persons by these presents, that we ___ (name of charter operator) ___ of___ (city) ___ (state) as Principal (hereinafter called Principal), and ___ (name of surety) a corporation created and existing under the laws of the State of ___ (State) as Surety (hereinafter called Surety) are held and firmly bound unto the United States of America in the sum of $______________(see 14 CFR 380.34) for which payment, well and truly to be made, we bind ourselves and our heirs, executors, administrators, successors, and assigns, jointly and severally, firmly by these presents.

Whereas Principal intends to become a Public Charter operator pursuant to the provisions of 14 CFR part 380 and other rules and regulations of the Department relating to insurance or other security for the protection of charter participants, and has elected to file with the Department of Transportation such a bond as will insure financial responsibility with respect to all moneys received from charter participants for services in connection with a Public Charter to be operated subject to part 380 of the Department's regulations in accordance with contracts, agreements, or arrangements therefore, and

Whereas this bond is written to assure compliance by Principal as an authorized charter operator with 14 CFR part 380 and other rules and regulations of the Department relating to insurance and other security for the protection of charter participants, and shall inure to the benefit of any and all charter participants to whom Principal may be held legally liable for any damages herein described.

Now, therefore, the condition of this obligation is such that if Principal shall pay or cause to be paid to charter participants any sum or sums for which Principal may be held legally liable by reason of Principal's failure faithfully to perform, fulfill and carry out all contracts, agreements, and arrangements made by Principal while this bond is in effect with respect to the receipt of moneys from charter participants, and proper disbursement thereof pursuant to and in accordance with the provisions of 14 CFR part 380, then this obligation shall be void, otherwise to remain in full force and effect.

The liability of Surety with respect to any charter participant shall not exceed the charter price paid by or on behalf of such participant.

The liability of Surety shall not be discharged by any payment or succession of payments hereunder, unless and until such payment or payments shall amount in the aggregate to the penalty of the bond, but in no event shall Surety's obligation hereunder exceed the amount of said penalty.

Surety agrees to furnish written notice to the U.S. Air Carrier Licensing/Special Authorities Division, X-44, Office of International Aviation, Department of Transportation, forthwith of all suits or claims filed and judgments rendered, and payments made by Surety under this bond.

The bond shall cover the following charters ¹

¹ These data may be supplied in an addendum attached to the bond.

Surety company's bond No.

Date of flight departure

Place of flight departure

This bond is effective on the __ day of _________, 20_, 12:01 a.m., standard time at the address of Principal as stated herein and as hereinafter provided. Principal or Surety may at any time terminate this bond by written notice to: “U.S. Air Carrier Licensing/Special Authorities Division (X-44), Office of International Aviation, U.S. Department of Transportation, 1200 New Jersey Avenue SE, W-86-445, Washington, DC 20590,” such termination to become effective thirty (30) days after the actual receipt of said notice by the Department. Surety shall not be liable hereunder for the payment of any damages hereinbefore described which arise as a result of any contracts, agreements, undertakings, or arrangements for the supplying of transportation and other services made by Principal after the termination of this bond as herein provided, but such termination shall not affect the liability of the bond hereunder for the payment of any damages arising as a result of contracts, agreements, or arrangements for the supplying of transportation and other services made by Principal prior to the date that such termination becomes effective. Liability of Surety under this bond shall in all events be limited only to a charter participant or charter participants who shall within sixty (60) days after the termination of the particular charter described herein give written notice of claim to the charter operator or, if it is unavailable, to Surety, and all liability on this bond shall automatically terminate sixty (60) days after the termination date of each particular charter covered by this bond except for claims made in the time provided herein.

In witness whereof, the said Principal and Surety have executed this instrument on the __ day of _________, 20_.

PRINCIPAL

Name

By: Signature and title

Witness

Bonding or surety company must be listed in Best's Insurance Reports (Fire and Casualty) with a general policyholders' rating of “A” or better or in the Department of the Treasury listing of companies holding certificates of authority as acceptable sureties on Federal bonds. In addition, the bonding or surety company shall be one legally authorized to issue bonds of that type in the State(s) in which the charter flight(s) originate. Agents must provide satisfactory proof that they have the requisite authority to issue this bond.

Appendix B to Part 380—Public Charter Operators's Surety Trust Agreement

This Trust Agreement is entered into between ___________ (charter operator) incorporated under the laws of ____________ with its principal place of business being ______________________ (hereinafter called “Operator”), and ____________________(Bank) with its principal place of business being____________________ (hereinafter called “Trustee”), for the purpose of creating a trust to become effective as of the ______ day of ______, 20_, which trust shall continue until terminated as hereinafter provided.

Operator intends to become a Public Charter operator pursuant to the provisions of part 380 of the Department's regulations and other rules and regulations of the Department relating to insurance or other security for the protection of charter participants, and has elected to file with the Department of Transportation such a Surety Trust Agreement as will insure financial responsibility with respect to all monies received from charter participants for services in connection with a Public Charter to be operated subject to part 380 of the Department's regulations in accordance with contracts, agreements, or arrangements therefore.

This Surety Trust Agreement is written to assure compliance by Operator with the provisions of part 380 of the Department's regulations and other rules and regulations of the Department relating to insurance or other security for the protection of charter participants. It shall inure to the benefit of any and all charter participants to whom Operator may be held legally liable for any of the damages herein described.

It is mutually agreed by and between Operator and Trustee that Trustee shall manage the corpus of the trust and carry out the purposes of the trust as hereinafter set forth during the term of the trust for the benefit of charter participants (who are hereinafter referred to as “Beneficiaries.”)

Beneficiaries of the trust created by this Agreement shall be limited to those charter participants who meet the following requirements:

1. Those for whom Operator or Operator's agent has received payment toward participation in one or more charters operated by or proposed to be operated by Operator.

2. Who have legal claim or claims for money damages against Operator by reason of Operator's failure faithfully to perform, fulfill, and carry out all contracts, agreements, and arrangements made by Operator while this trust is in effect with respect to the receipt of monies and proper disbursement thereof pursuant to part 380 of the Department's regulations; and

3. Who have given notice of such claim or claims in accordance with this Trust Agreement, but who have not been paid by Operator.

The operator shall convey to Trustee legal title to the trust corpus, which has a value of $_____ by the time of the execution of this Agreement.

Trustee shall assume the responsibilities of Trustee over the said trust corpus and shall distribute from the trust corpus to any and all Beneficiaries to whom Operator, in its capacity as a Public Charter operator, may be held legally liable by reason of Operator's failure faithfully to perform, fulfill, and carry out all contracts, agreements, and arrangements made by Operator, while this trust is in effect with respect to the receipt of monies and proper disbursement thereof pursuant to part 380 of the Department's regulations in connection with said charters, such damages as will discharge such liability while this trust is in effect; Provided, however, that the liability of the trust to any Beneficiary shall not exceed the charter price (as defined in part 380 of the Department's regulations) paid by or on behalf of any such Beneficiary; Provided, further, that there shall be no obligation of the trust to any Beneficiary if Operator shall pay or cause to be paid to any Beneficiary any sum or sums for which Operator may be held legally liable by reasons of its failure faithfully to perform, fulfill, and carry out all contracts, agreements, and arrangements made by Operator in its capacity as Public Charter Operator while this trust is in effect with respect to the receipt of monies and proper disbursement thereof pursuant to part 380 of the Department's regulations; and provided still further, that the liability of the trust as administered by Trustee shall not be discharged by any payment or succession of payments hereunder, unless and until such payment or payments, shall amount in the aggregate to $_____. Notwithstanding anything herein to the contrary, in no event shall the obligation of the trust or Trustee hereunder exceed the aggregate amount of $_____.

Trustee agrees to furnish written notice to the U.S. Air Carrier Licensing/Special Authorities Division, X-44, Office of International Aviation, Department of Transportation, forthwith of all suits or claims filed and judgments rendered (of which it has knowledge), and of payments made by Trustee under the terms of this trust.

The trust shall not be liable hereunder for the payment of any damages hereinbefore described which arise as a result of any contracts, agreements, undertakings, or arrangements for the supplying of transportation and other services made by Operator after the termination of this trust as herein provided, but such termination shall not affect the liability of the trust hereunder for the payment of any damages arising as a result of contracts, agreements, or arrangements for the supplying of transportation and other services made by Operator prior to the date that such termination becomes effective.

Liability of the trust shall in all events be limited only to a Beneficiary or Beneficiaries who shall within sixty days after the termination of the particular charter give written notice of claim to Operator or, if it is unavailable, to Trustee, and all liability of the trust with respect to participants in a charter shall automatically terminate sixty days after the termination date of each particular charter covered by this trust except for claims made in the time provided herein.

Sixty-one days after the completion of the last charter covered by this Trust Agreement, the trust shall automatically terminate except for claims of any Beneficiary or Beneficiaries previously made in accordance with this Agreement still pending on and after said sixty-first day. To the extent of such claims, the trust shall continue until those claims are discharged, dismissed, dropped, or otherwise terminated. After all remaining claims which are covered by this Trust Agreement pending on and after the said sixty-first day have been discharged, dismissed, dropped, or otherwise terminated; Trustee shall convey forthwith the remainder of the trust corpus, if any, to Operator.

Either Operator or Trustee may at any time terminate this trust by written notice to: “U.S. Air Carrier Licensing/Special Authorities Division, X-44, Office of International Aviation, U.S. Department of Transportation, 1200 New Jersey Avenue SE, W-86-445, Washington, DC 20590,” such termination to become effective thirty days after the actual receipt of said notice by the Department.

In the event of any controversy or claim arising hereunder, Trustee shall not be required to determine same or take any other action with respect thereto, but may await the settlement of such controversy or claim by final appropriate legal proceedings, and in such event shall not be liable for interest or damages of any kind.

Any Successor to Trustee by merger, consolidation, or otherwise, shall succeed to this trusteeship and shall have the powers and obligations set forth in this Agreement.

The trust created under this Agreement shall be operated and administered under the laws of the State of _________.

In Witness Whereof, Operator and Trustee have executed this instrument on the date(s) shown below.

Operator ____________

(signature)

Date

Name

(typed or printed)

Title

Trustee

(signature)

Date

Name

(typed or printed)

Title

PART 385—STAFF ASSIGNMENTS AND REVIEW OF ACTION UNDER ASSIGNMENTS

236. The authority citation for part 385 is revised to read as follows:

Authority: 49 U.S.C. 329, 40101, 41101, 41301, and 41701.

237. Throughout part 385, remove the words “of the Statute” and add in their place the words “of 49 U.S.C. Subtitle VII”.

§ 385.1 [AMENDED]

238. Amend § 385.1 as follows:

a. Remove the definition for “Department”.

b. In the definition of “Precedent”, remove the words “by the Board” and add in their place the words “by its predecessor”.

c. In the definition of “Reviewing Official”, remove the word “Deputy”.

d. Remove the definition for “Statute”.

§ 385.2 [AMENDED]

239. In § 385.2, remove the words “and the Director, Bureau of Transportation Statistics (BTS)”.

§ 385.7 [AMENDED]

240. In § 385.7, remove the word “Deputy”.

241. Amend § 385.12 as follows:

a. Paragraphs (f), (h), and (i) are removed.

b. Paragraphs (g), (j), and (k) are redesignated as paragraphs (f), (g), and (h), respectively.

c. Newly redesignated paragraphs (f), (g), and (h) are revised.

d. New paragraph (i) is added.

The revisions read as follows:

§ 385.12 Authority of the Director, Office of Aviation Analysis.

* * * * *

(f) To approve certificates of insurance filed with the Department on behalf of U.S. and foreign air carriers in accordance with the provisions of part 205 of this chapter.

(g) With respect to mail rates:

(1) To issue show-cause orders proposing to make modifications of a technical nature in the mail rate formula applicable to temporary or final service mail rate orders.

(2) To issue final orders establishing temporary and final service mail rates:

(i) In those cases where no objection has been filed following release of the show-cause order, and where the rates established are the same as those proposed in the show-cause order; and

(ii) In those cases where it is necessary to make modifications of a technical nature in the rates proposed in the show-cause order.

(3) To issue final orders amending mail rate orders of air carriers to reflect changes in the names of the carriers subject to the orders.

(4) To issue a letter, in the case of air mail contracts filed with the Department under part 302 of this chapter against which no complaints have been filed, stating that the contract will not be disapproved by the Department and may become effective immediately.

(5) To issue final orders making quarterly fuel rate adjustments to Alaska bush and mainline mail rates set by the Department under 49 U.S.C. 41901, 41902, and 41903.

(h) With respect to essential air service (EAS) proceedings:

(1) To establish procedural dates.

(2) To issue orders setting interim rates of compensation for carriers required to provide essential air service.

(3) To issue orders approving a carrier's alternate service pattern if:

(i) The resulting level of service at the eligible place would be equal to or greater than the level of service earlier determined to be essential for that place;

(ii) The community concerned does not object to the carrier's implementation of the alternate service pattern; and

(iii) The carrier is not receiving a subsidy for the service or implementation of the alternate service pattern would not increase the carrier's subsidy.

(4) To issue orders adjusting the operational and/or financial unit rates of the payout formula for a carrier receiving subsidy under section 41732 of 49 U.S.C. Subtitle VII where the adjustment will not increase the total amount of compensation that the carrier will receive.

(5) To renew, up to five times in succession, an order under section 41734 of 49 U.S.C. Subtitle VII to an air carrier to continue providing essential air service while the Department attempts to find a replacement carrier.

(6) To request service and subsidy proposals from carriers interested in providing essential air service to an eligible place.

(7) To issue final orders establishing interim or final subsidy rates under section 41732 or final adjustments of compensation for continued service under section 41732 in those cases where no objection has been filed to a show-cause order, and where the rates established are the same as or less than those proposed in the approved show-cause order.

(8) With respect to provisions for terminations, suspensions, or reductions of service under part 323 of this chapter:

(i) To require any person who files a notice, objection, or answer to supply additional information.

(ii) To require service of a notice, objection, or answer upon any person.

(iii) To accept late-filed objections or answers, upon motion, for good cause shown.

(iv) To extend the time for filing objections for answers, when the initial notice has been filed earlier than required under § 323.5 of this chapter.

(9) To issue final air carrier selection orders establishing final subsidy rates for EAS provided under 49 U.S.C. 41733:

(i) Where the compensation to be paid is the same as or less than the existing rate, and where the community does not object to the selected option;

(ii) For EAS eligible Alaska communities, when the subsidy rate to be paid is less than $125,000, and where the community does not object to the selected option; and

(iii) In cases where only one air carrier submitted one service or subsidy option.

(10) With respect to provisions for terminations, suspensions, or reductions of service under part 323 of this chapter:

(i) To require any person who files a notice, objection, or answer to supply additional information.

(ii) To require service of a notice, objection, or answer upon any person.

(iii) To accept late-filed objections or answers, upon motion, for good cause shown.

(iv) To extend the time for filing objections for answers, when the initial notice has been filed earlier than required under § 323.5 of this chapter.

(i) To issue procedural orders or notices in antitrust immunity cases filed under part 303 of this chapter with respect to:

(1) Granting or denying requests for adjustments to procedural deadlines where there is no objection;

(2) Making other adjustments to a procedural schedule where the policy is clear and consistent with precedent;

(3) Granting parties to a proceeding access to confidential documents filed under a request for public non-disclosure pursuant to § 302.12 of this chapter, where providing such access is consistent under current policy and precedent; and

(4) In uncontested proceedings, ordering the filing of additional documents deemed relevant to the Department's consideration of the application, including the filing of documents for in-camera review, where doing so is consistent with past policy and precedent.

242. Amend § 385.13 as follows:

a. Remove the word “and” at the end of paragraph (b)(3).

b. Remove paragraph (b)(4).

c. Redesignate paragraphs (b)(2) and (3) as (b)(3) and (4), respectively.

d. Add new paragraphs (b)(2), (5), and (6).

e. Revise paragraphs (r) introductory text and (r)(1).

f. Add paragraphs (z) through (dd).

The additions and revisions to read as follows:

§ 385.13 Authority of the Director, Office of International Aviation.

* * * * *

(b) * * *

(2) For general tariff exemptions that apply to all U.S. and foreign air carriers pursuant to 14 CFR part 293;

* * * * *

(5) Issue orders granting uncontested applications by U.S. carriers to provide foreign air transportation where the carrier has already been found fit, willing, and able to provide service of the same basic scope or character; and

(6) Issue orders granting uncontested applications by foreign air carriers to provide foreign air transportation where the course of action is clear under current policy or precedent.

* * * * *

(r) With respect to International Air Transport Association (IATA) agreements filed with the Department pursuant to sections 41309 and 41308 of 49 U.S.C. Subtitle VII, or agreements filed pursuant to previous statutory authority of the Department's predecessor:

(1) Issue orders approving, disapproving, or exempting IATA agreements relating to fare and rate matters under section 41309, and granting or denying antitrust immunity under section 41308, where the course of action is clear under current policy and precedent.

* * * * *

(z) Issue orders and notices adjusting the Standard Foreign Fare Level to reflect percentage changes in actual operating costs per available seat mile.

(aa) Issue notices updating the list of country-pair markets.

(bb) With respect to Canadian charter air taxi operations:

(1) To approve applications for registration, or require that a registrant submit additional information, or reject an application for registration for failure to comply with part 294 of this chapter.

(2) To cancel, revoke, or suspend the registration of any Canadian charter air taxi operator using small aircraft registered under part 294 of this chapter that:

(i) Filed with the Department a written notice that it is discontinuing operations;

(ii) Is no longer designated by its home government to operate the services contemplated by its registration;

(iii) Holds a foreign air carrier permit under section 41302 to operate large aircraft charters between the United States and Canada;

(iv) Fails to keep its filed certificate of insurance current;

(v) No longer is substantially owned or effectively controlled by persons who are:

(A) Citizens of Canada;

(B) The Government of Canada; or

(C) A combination of both; or

(vi) No longer holds current effective Operations Specifications issued by the FAA.

(3) To grant or deny requests for a waiver of part 294 of this chapter, where grant or denial of the request is in accordance with current policy or precedent.

(cc) With respect to foreign air freight forwarders:

(1) To approve applications for registration, or require that a registrant submit additional information, or reject an application for registration for failure to comply with part 297 of this chapter.

(2) To cancel the registration of any foreign air freight forwarder or foreign cooperative shippers association that files a written notice with the Department indicating the discontinuance of common carrier activities.

(3) To exempt the registrant from the requirement contained in § 297.20 of this chapter that substantial ownership and effective control reside in citizens of the country that the applicant claims as its country of citizenship, where the course of action is clear under current precedent or policies.

(dd) With respect to charter operations:

(1) To grant or deny requests for waiver of parts 212, 372, and 380 of this chapter, where grant or denial of the request is in accordance with established precedent.

(2) To approve or disapprove direct air carrier escrow agreements filed pursuant to part 212 of this chapter.

(3) To reject or accept Public Charter prospectuses filed under part 380 of this chapter.

(4) With respect to the procedures for the registration of foreign charter operators under subpart E of part 380 of this chapter:

(i) To approve applications for registration, or require that a registrant submit additional information, or reject an application for registration for failure to comply with part 380 of this chapter.

(ii) To notify the applicant that its application will require further analysis or procedures, or is being referred to the Assistant Secretary for Aviation and International Affairs for formal action.

(iii) To cancel the registration of a foreign charter operator if it files a written notice with the Department that it is discontinuing its charter operations.

(iv) To waive provisions of subpart E of part 380 of this chapter.

243. Revise § 385.14 to read as follows:

§ 385.14 Authority of the General Counsel.

The General Counsel has authority to:

(a) Issue proposed or final regulations for the purpose of making editorial changes or corrections to the Department's rules and regulations to carry out Subparts I, II and IV of Part A of Subtitle VII of the Transportation Code at 49 U.S.C. 40101 et seq., with the concurrence of the staff offices primarily responsible for the parts or sections involved: Provided, that any final regulation so issued shall have an effective date not less than 20 days after its date of publication in the Federal Register, and shall include a brief reference to the review procedures established in subpart C of this part.

(b) Where a petition for review is duly filed, reverse any rulemaking action taken pursuant to paragraph (a) of this section by withdrawing a proposed or final regulation issued thereunder. Any action taken by the General Counsel, pursuant to the authority of this section, shall not be subject to the review procedures of this part.

(c) Issue orders deferring action until after oral argument on motions submitted by parties subsequent to the issuance of an Administrative Law Judge's initial or recommended decision.

(d) Reissue existing regulations for the purpose of incorporating prior amendments adopted by the Department.

(e) Compromise any civil penalties being imposed in enforcement cases.

(f) Issue orders initiating and terminating informal nonpublic investigations under part 305 of this chapter (Procedural Regulations).

(g) Issue orders requiring air carriers to prepare and submit within a specified reasonable period, special reports, copies of agreements, records, accounts, papers, documents, and specific answers to questions upon which information is deemed necessary. Special reports shall be under oath whenever the General Counsel so requires.

(h) Institute and prosecute in the proper court, as agent of the Department, all necessary proceedings for the enforcement of the provisions of the act or any rule, regulation, requirement, or order thereunder, or any term, condition, or limitation of any certificate or permit, and for the punishment of all violations thereof. Any action taken by the General Counsel, pursuant to the authority of this section, shall not be subject to the review procedures of this part.

(i) Make findings regarding the reasonable necessity for the application of the Department's authority to obtain access to lands, buildings, and equipment, and to inspect, examine, and make notes and copies of accounts, records, memorandums, documents, papers, and correspondence of persons having control over, or affiliated with, any person subject to regulation under Subparts I, II, and IV of Part A of Subtitle VII of the Transportation Code at 49 U.S.C. 40101 et seq. through issuance of an appropriate order, letter, or other transmittal.

(j) Issue orders denying or granting conditional or complete confidential treatment of information supplied by any person to the Office of Aviation Enforcement and Proceedings. Confidential treatment may only be granted upon a finding that, if the information were in the Department's possession and a Freedom of Information Act (FOIA) request were made for the information:

(1) At the time of the confidentiality request, the FOIA request would be denied on the basis of one or more of the FOIA exemptions; and

(2) At any later time, the FOIA request would also be denied, absent a material change in circumstances (which may include a demonstration that the asserted exemption does not apply).

§ 385.15 [REMOVED AND RESERVED]

244. Remove and reserve § 385.15.

§ 385.18 [AMENDED]

245. In § 385.18, remove the words “Chief, Coordination Section, Documentary Services Division” wherever they appear and add in their place the words “Docket Officer, Docket Operations Office”.

§ 385.19 [AMENDED]

246. In § 385.19, remove the words “Office of Aviation Information” wherever they appear and add in their place the words “Office of Airline Information”.

§ 385.32 [AMENDED]

247. In § 385.32, remove “this regulation” and add in its place “this part”.

248. Part 389 is revised to read as follows:

PART 389—FEES AND CHARGES FOR SPECIAL SERVICES

Subpart A—General Provisions
Sec.
389.1 Policy and scope.
Subpart B—Fees for Special Services
389.10 Applicability of subpart.
389.11 Available services and resources.
389.12 Payment of fees and charges.
389.13 Fees for services.
Subpart C—Filing and Processing License Fees
389.20 Applicability of subpart.
389.21 Payment of fees.
389.22 Failure to make proper payment.
389.23 Application for waiver or modification of fees.
389.24 Foreign air carriers.
389.25 Schedule of processing fees.
389.26 Special rules for tariff page filings.
389.27 Refund of fee.

Authority: 49 U.S.C. 40113, 40114, 41711; 31 U.S.C. 9701; and 5 U.S.C. 552.

Subpart A—General Provisions

§ 389.1 Policy and scope.

Pursuant to the provisions of 31 U.S.C. 9701, Fees and charges for Government services and things of value, and as implemented by the Office of Management and Budget's Circular A-25, dated July 8, 1993, the Department sets forth in this part fees and charges to be paid for the use of certain services and resources of the Department as prescribed in this part.

Subpart B—Fees for Special Services

§ 389.10 Applicability of subpart.

This subpart describes certain services and resources made available by the Department and prescribes the fees and charges for those services and resources.

§ 389.11 Available services and resources.

Upon request and payment of fees as provided in this part, there are available, with respect to documents subject to inspection, services as follows:

(a) Locating and copying records and documents;

(b) Certification of copies of documents under seal of the Department; and

(c) Transcripts of hearings and proceedings.

§ 389.12 Payment of fees and charges.

The fees charged for services and resources shall be paid for electronically at http://www.pay.gov, a secure government-wide collection portal, except for charges for reporting services that are performed under competitive bid contracts with non-Government firms. Fees for reporting are payable to the firms providing the services. Payments to pay.gov can be made directly from a bank account or by credit/debit card.

§ 389.1 3 Fees for services.

Fees for services and resources described in this subpart and subpart C of this part are pursuant to those fees set forth in 49 CFR part 7, subpart F, §§ 7.41 through 7.43, 7.45 and 7.46.

Subpart C—Filing and Processing License Fees

§ 389.20 Applicability of subpart.

(a) This subpart applies to the filing of certain documents and records with the Department by non-government parties, and prescribes fees for their processing.

(b) For the purpose of this subpart, record means an electronic tariff record submitted to the Department under subpart R of 14 CFR part 221, and contains a set of information that describes one (1) tariff fare, or a set of information that describes one (1) related element associated with such tariff fare.

§ 389.21 Payment of fees.

(a) Except as provided in paragraph (b) of this section, any document for which a filing fee is required by § 389.25 shall be paid for electronically at http://www.pay.gov, a secure government-wide collection portal, unless a waiver or modification of the filing fee has been requested and approved. Payments can be made directly from a bank account or by credit/debit card.

(b) Registration for all air taxi operators shall be accompanied by an 8 dollar ($8) registration filing fee in the form of a check, draft, or postal money order payable to the U.S. Department of Transportation.

(c) Where a document seeks authority or relief in the alternative and therefore would otherwise be subject to more than one filing fee, only the highest fee shall be required.

(d) Where a document relating to a single transaction or matter seeks multiple authorities or relief and therefore would otherwise be subject to more than one filing fee, only the highest fee shall be required. Where a document relating to more than one transaction or matter seeks multiple authorities or relief, the required filing fee shall be determined by combining the highest fees for each transaction or matter. For purposes of this paragraph (d), a specific number of charters or inclusive tours described in one application will be regarded as a single transaction or matter.

(e) No fee shall be returned after the document has been filed with the Department, except as provided in §§ 389.23 and 389.27.

§ 389.22 Failure to make proper payment.

In accordance with 49 CFR part 7, subpart F, § 7.42, the Department will assess interest on unpaid fees on the 31st day following the day on which a notice of the amount due is first mailed to the requestor, unless the Department has granted an application for waiver or modification of the fees.

§ 389.23 Application for waiver or modification of fees.

(a) Applications may be filed asking for waiver or modification of any fee paid under this subpart. Each applicant shall set forth the reasons why a waiver or modification should be granted, and by what legal authority.

(b) Applications asking for a waiver or modification of fees shall be sent to the Director, Office of Aviation Analysis, U.S. Department of Transportation, 1200 New Jersey Avenue SE, Washington, DC 20590. This provision is in accordance § 385.30 of this chapter. When no petition for review is filed with the Department, or when the Department reviews the Director's decision, if the amount found due is not paid within 10 days after receipt of notification of the final determination, the document shall be returned to the filing party.

§ 389.24 Foreign air carriers.

A foreign air carrier, or such carriers, if from the same country, acting jointly, may apply for a waiver of the requirements of this part based on reciprocity for U.S. air carriers contained in the requirement of their home governments, or as provided in a treaty or agreement with the United States. To apply for a waiver under this section, foreign air carriers shall send waiver requests to the Director, Office of International Aviation. The request should include applicable official government rules, decisions, statements of policy, or comparable evidence concerning filing fees for U.S. air carriers, or for all carriers serving that country. Once a waiver has been granted for a specific country, no further waiver applications need be filed for that country.

§ 389.25 Schedule of processing fees.

(a) Document-filing fees.

Code | Document |
Interstate Air Transportation
Certificate of Public Convenience and Necessity (49 U.S.C. Chapter 411)
1 | Application for Certificate of Public Convenience and Necessity Interstate Air Transportation—Charter Authority Only | 850
2 | Application for Certificate of Public Convenience and Necessity Interstate Air Transportation—Scheduled Service | 850
3 | Dormant Authority | 290
4 | Application for Certificate of Public Convenience and Necessity Interstate Air Transportation—Cargo Authority Only | 670
5 | Application to transfer Certificate of Public Convenience and Necessity Interstate Air Transportation | 290
6 | Air Taxi Registration | 8
7 | Application for Commuter Air Carrier Authorization | 670
8 | Change of Name (registration of trade name or reissuance of certificate) | 56
9 | Exemption Request—General (49 U.S.C. Chapter 401)
10 | Request for an Exemption from 49 U.S.C. Chapter 415 | 53
11 | Request for an Exemption from 49 U.S.C Chapter 411 | 280
12 | Request for an Exemption from 49 U.S.C Chapter 417 | 120
13 | Request for a Service Mail Rate Petition 49 U.S.C. Chapter 419 | 420
Foreign Air Transportation—U.S. Carriers (49 U.S.C. Chapter 411)
14 | Application for Certificate of Public Convenience and Necessity Foreign Air Transportation—Scheduled Service | 900
15 | Amendment to Application for Certificate of Public Convenience and Necessity Foreign Air Transportation—Scheduled Service | 425
16 | Application for Certificate of Public Convenience and Necessity Foreign Air Transportation—Charter Service | 600
17 | Amendment to Application for Certificate of Public Convenience and Necessity Foreign Air Transportation—Charter Service | 200
18 | Transfer of Certificate of Public Convenience and Necessity Foreign Air Transportation—Scheduled or Charter Service | 255
19 | Change of Name (registration of trade name or reissuance of certificate) | 56
Foreign Air Carrier Permit (49 U.S.C. Chapter 413)
20 | Foreign Air Carrier Permit—Initial Application | 760
21 | Foreign Air Carrier Permit—Amendment/Renewal of permit | 475
22 | Foreign Air Carrier Permit—Amendment to application for a permit | 215
Exemption (49 U.S.C. Chapter 401)
23 | Request for an Exemption from 49 U.S.C. Chapter 415 | 53
24 | Request for an Exemption from 49 U.S.C. Chapters 411/413 (10 or fewer flights) | 77
25 | Request for an Exemption from 49 U.S.C. Chapters 411/413 (More than 10 flights) | 360
26 | Request for an Exemption from 49 U.S.C. Chapters 411/413 (Filed less than 10 days before effective date requested) | ¹ 17
27 | Other (U.S. and foreign air carriers) | 360
28 | Emergency cabotage (49 U.S.C. Chapter 401) | 360
29 | Relief for U.S. and foreign indirect air carriers (49 U.S.C. Chapter 401) | 370
Undocketed Items
30 | Canadian Charter Air Taxi Registration | 30
31 | Foreign Freight Forwarder Registration | 11
32 | Foreign Tour Operator Registration | 10
33 | Foreign Aircraft Permit (14 CFR part 375) | 25
34 | Special Authorization (14 CFR part 375) | 12
35 | Charter Statement of Authorization | 8
36 | Intermodal Statement of Authorization | 10
37 | Special Authority (14 CFR part 216) | 37
38 | Fee for filing items 33-37 if filed less than time required before effective date | ¹ 11
39 | IATA resolutions | 61
Other (U.S. and Foreign Air Carriers)
| Charters:
40 | Public Charter Prospectus | 39
41 | OMPC Operation Authorization | 665
42 | Waiver of Charter Regulations | 39
| Tariffs:
43 | Pages | 2
44 | Special Tariff Permission | 12
45 | Waiver of Tariff Regulations | 12
46 | Exemption request | 371
| Agreements filed under 49 U.S.C. Chapter 413
47 | Prior Approval (docketed) | 1,080
48 | Routine (non-docketed) | 64
49 | Application for free and reduced-rate transportation | 16
¹ Additional.

(b) Electronic tariff filing fees. The filing fee for one (1) or more transactions proposed in any existing record, or for any new or canceled records, shall be 5 cents per record; Provided: That no fee shall be assessed for those records submitted to the Department pursuant to 14 CFR 221.500(b).

§ 389.26 Special rules for tariff page filings.

(a) Tariffs issued by carriers. The filing fee for tariff pages filed by U.S. air carriers will be charged even if the tariff includes matters involving participating foreign air carriers. It will also be charged if the tariff is issued by a foreign air carrier and includes matters involving participating U.S. air carriers, unless the foreign air carrier has obtained a waiver under § 389.24. The fee will not be charged for a blank looseleaf page unless it cancels matter in the preceding issue of the page.

(b) Tariffs issued by publishing agents. (1) If the tariff is issued for one or more air carriers exclusively, the fee will be charged for each page.

(2) If the tariff is issued for one or more air carriers and one or more foreign air carriers, the fee will be charged for each page, except for those pages that the issuing agent states contain only:

(i) Matters pertaining exclusively to foreign air carriers that have been granted a waiver; or

(ii) Changes in matters pertaining to foreign air carriers that have been granted a waiver and that are included on the same page with other matters that are reissued without change.

(3) The fee will not be charged for a blank looseleaf page unless it cancels matters in the preceding page.

(4) No fee will be charged when two pages are published back-to-back, one page is not subject to the fee under paragraph (b)(2) of this section, and the page on the reverse is issued without substantive change.

(5) The fee will be charged for two looseleaf pages containing a correction number check sheet unless all other pages of the tariff are exempt from the fee.

§ 389.27 Refund of fee.

Any fee charged under this part may be refunded in full or in part upon request if the document for which it is charged is withdrawn before final action is taken. Such requests shall be filed in accordance with § 389.23.

PART 398—GUIDELINES FOR INDIVIDUAL DETERMINATIONS OF BASIC ESSENTIAL AIR SERVICE

249. The authority citation for part 398 continues to read as follows:

Authority: 49 U.S.C. Chapters 401, 417; Airport and Airway Safety and Capacity Expansion Act of 1987 (Pub. L. 100-223, Dec. 30, 1987).

§ 398.11 [Removed]

250. Section 398.11 is removed.

PART 399—STATEMENTS OF GENERAL POLICY

251. The authority citation for part 399 continues to read as follows:

Authority: 49 U.S.C. 41712.

252. Throughout part 399, remove the words “Board” and “Board's” wherever they appear and add in their place the words “Department” and “Department's”, respectively.

§ 399.2 [AMENDED]

253. In § 399.2(c), remove the words “section 102 of the Act” and add in their place “49 U.S.C. 40101”.

§ 399.4 [AMENDED]

254. In § 399.4, remove the word “the Act” and add in its place the words “49 U.S.C.”.

§§ 399.30, 399.31, 399.32, 399.33, and 399.34 [REMOVED]

255. Sections 399.30, 399.31, 399.32, 399.33, and 399.34 are removed.

256. Section 399.35 is revised to read as follows:

§ 399.35 Special tariff permission.

The Secretary of Transportation may approve, under such terms as the Secretary may require, a carrier's application for Special Tariff Permission to file a tariff for foreign air transportation required under part 293 of this chapter on less than the notice required by 49 U.S.C. 41504(b).

§§ 399.37, 399.40, 399.41, 399.42, 399.43, and 399.44 [REMOVED]

257. Sections 399.37, 399.40, 399.41, 399.42, 399.43, 399.44 are removed.

Table following § 399.44 [Designated as Appendix A to Subpart C of Part 399]

258. Designate the table entitled “Example of SIFL Adjustment”, which follows § 399.44, as appendix A to subpart C and add a heading for appendix A to read as follow:

Appendix A to Subpart C of Part 399—Example of SIFL Adjustment

§ 399.60 [AMENDED]

259. In § 399.60(a), remove the words “applications under section 408 of the Act for approval of consolidations or acquisitions of control;”.

§ 399.73 [AMENDED]

260. In § 399.73, remove “298.3” and add in its place “298.2”.

§ 399.80 [AMENDED]

261. In § 399.80, in the introductory text, remove “(m)” and add in its place “(n)”.

§ 399.81 [AMENDED]

262. Amend § 399.81 as follows:

a. In paragraph (c)(1), remove the words “This section” and add in their place the words “This paragraph (c)”.

b. In paragraph (c)(2), remove the words “this section” and add in their place the words “this paragraph (c)”.

c. In paragraph (c)(3), remove the words “this paragraph” and add in their place the words “this paragraph (c)”.

§ 399.82 [AMENDED]

263. Amend § 399.82 as follows:

a. Remove paragraphs (b)(2) and (3).

b. Redesignate paragraphs (b)(4) and (5) as (b)(2) and (3).

c. Add the word “or” at the end of newly redesignated paragraph (b)(2).

§ 399.83 [AMENDED]

264. In § 399.83, remove the words “section 411 of the Act” and add in their place “49 U.S.C. 41712”.

265. Section 399.91 is revised to read as follows:

§ 399.91 Air carrier participation in programs of technical assistance to airlines of less developed countries.

This policy shall apply to proceedings under 49 U.S.C. 41309 in which the Department is required to make any determination as to the public interest or consistency with 49 U.S.C. Subtitle VII of any agreement or relationship sought to be entered into by an air carrier, or officer or director thereof, with a foreign airline in connection with the performance of some activity pursuant to a technical assistance contract financed by an agency of the U.S. Government.

Subparts I and J—[REMOVED AND RESERVED]

266. Subparts I and J, consisting of §§ 399.101 and 399.111, respectively, are removed and reserved.

§ 399.120 [AMENDED]

267. In § 399.120, remove the words “section 401(d)(8) of the Federal Aviation Act” and add in their place “49 U.S.C. 41102 and 41110”.

Issued in Washington, DC, on: February 7, 2019.
Elaine L. Chao,
Secretary of Transportation.

[FR Doc. 2019-02511 Filed 4-15-19; 8:45 am]

BILLING CODE 4910-9X-P